DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 219-9657. For information on HRSA's role in the Program, contact the Director, National Vaccine Injury Compensation Program, 5600 Fishers Lane, Room 16C-17, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested after the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on April 1, 2003, through June 30, 2003.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading “For Further Information Contact”), with a copy to HRSA addressed to Director, Division of Vaccine Injury Compensation Program, Office of Special Programs, 5600 Fishers Lane, Room 16C-17, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Mary Bell and John Intrater on behalf of Dillon Intrater, Lake Success, New York, Court of Federal Claims Number 03-0668V

2. Claudette and James Bardwil, on behalf of Brianna Bardwil, Lake Success, New York, Court of Federal Claims Number 03-0669V

3. Patricia Munoz on behalf of Ronald Sosa, Boston, Massachusetts, Court of Federal Claims Number 03-0687V

4. Patricia Munoz on behalf of Arturo Sosa, Boston, Massachusetts, Court of Federal Claims Number 03-0688V

5. Michelle Tussey on behalf of Austin Tussey, Boston, Massachusetts, Court of Federal Claims Number 03-0689V

6. Brian Halladay on behalf of Mason Halladay, Boston, Massachusetts, Court of Federal Claims Number 03-0690V

7. Lynn Howard on behalf of Garrett Howard, Boston, Massachusetts, Court of Federal Claims Number 03-0691V

8. Van Arrington on behalf of Sophia Arrington, Boston, Massachusetts, Court of Federal Claims Number 03-0692V

9. Dalene Hart on behalf of Kaylie Hart, Boston, Massachusetts, Court of Federal Claims Number 03-0693V

10. Lynette Klingman on behalf of Chloe Klingman, Boston, Massachusetts, Court of Federal Claims Number 03-0694V

11. Chiquita Clark on behalf of Azjanae Fields, Boston, Massachusetts, Court of Federal Claims Number 03-0695V

12. Theresa Dimicco on behalf of Michael Dimicco, Boston, Massachusetts, Court of Federal Claims Number 03-0699V

13. Scott Moran on behalf of Brendan Moran, Boston, Massachusetts, Court of Federal Claims Number 03-0700V

14. Jody Wolf on behalf of Patrick Wolf, Miami, Florida, Court of Federal Claims Number 03-0701V

15. Amber and Raul Rodriguez on behalf of Alexander Kiely Rodriguez, Dallas, Texas, Court of Federal Claims Number 03-0702V

16. Tammy and George Eliseo on behalf of Nicholas Eliseo, Temecula, California, Court of Federal Claims Number 03-0703V

17. Linda Bertch on behalf of Andrew C. Bertch, Temecula, California, Court of Federal Claims Number 03-0704V

18. Laura and Bart Schley on behalf of Jack Schley, Temecula, California, Court of Federal Claims Number 03-0705V

19. Virginia and Michael Downs on behalf of Jessie M. Downs, Jacksonville, Florida, Court of Federal Claims Number 03-0707V

20. Sarah and Gary Levine on behalf of Trisha Levine, Vienna, Virginia, Court of Federal Claims Number 03-0710V

21. Mary Jane and Gerard Primamore on behalf of Joseph Primamore, Vienna, Virginia, Court of Federal Claims Number 03-0711V

22. Gabriella Pierson on behalf of Aaron E. Pierson, Jr., Phoenix, Arizona, Court of Federal Claims Number 03-0712V

23. Beverly Walker on behalf of Marcus Lee, Brunswick, Georgia, Court of Federal Claims Number 03-0715V

24. Jacqueline Chin on behalf of Michael Chin, Boston, Massachusetts, Court of Federal Claims Number 03-0716V

25. Khara Vance on behalf of James Vance, Vienna, Virginia, Court of Federal Claims Number 03-0717V

26. Michelle Bodine on behalf of Sonora Poulton, Vienna, Virginia, Court of Federal Claims Number 03-0718V

27. Melinda Anderson on behalf of Zacary Anderson, Vienna, Virginia, Court of Federal Claims Number 03-0719V

28. Beverly Pina on behalf of Deryl Pina, Lake Success, New York, Court of Federal Claims Number 03-0720V

29. Veronica and Joseph Greenaway on behalf of Samantha Greenaway, Lake Success, New York, Court of Federal Claims Number 03-0721V

30. Candance A. Passino on behalf of Justine Carl Lasalle, New York, New York, Court of Federal Claims Number 03-0723V

31. Tonya and Jonathon Mitchell on behalf of Quinten Tyler Mitchell, Houston, Texas, Court of Federal Claims Number 03-0729V

32. Martina Schlacter and Hector Reyes on behalf of Nicholas Reyes, Houston, Texas, Court of Federal Claims Number 03-0730V

33. Joe-Ann and Ronald Marler on behalf of Ronnie Marler, Houston, Texas, Court of Federal Claims Number 03-0731V

34. Carol and Howard Cushnie on behalf of Ashley Cushnie, Houston, Texas, Court of Federal Claims Number 03-0732V

35. Holly and J. L. Masclans on behalf of Claudia Masclans, Houston, Texas, Court of Federal Claims Number 03-0733V

36. Holly and J. L. Masclans on behalf of Benjamin Masclans, Houston, Texas, Court of Federal Claims Number 03-0734V

37. Susan and Raul Solanet on behalf of Hailey Solanet, Houston, Texas, Court of Federal Claims Number 03-0735V

38. Paula and Dennis Houghton on behalf of Matthew Houghton, Houston, Texas, Court of Federal Claims Number 03-0736V

39. Tamara and Evan Fusco on behalf of Brendan Fusco, Houston, Texas, Court of Federal Claims Number 03-0737V

40. Keey and James Gillard on behalf of Gerrett R. Gillard, Houston, Texas, Court of Federal Claims Number 03-0738V

41. Jolene Hallam on behalf of Jensen Hallam, Houston, Texas, Court of Federal Claims Number 03-0739V

42. Harriet Gibbons and Charles Hoover on behalf of Lenny Hoover, Houston, Texas, Court of Federal Claims Number 03-0740V

43. Janet and Burt Laws on behalf of Austin Laws, Houston, Texas, Court of Federal Claims Number 03-0741V

44. Stephanie and Kit Cessna on behalf of Hunter T. Cessna, Houston, Texas, Court of Federal Claims Number 03-0742V

45. Tammy and Douglas Shortridge on behalf of Clint Shortridge, Houston, Texas, Court of Federal Claims Number 03-0743V

46. Joanne Pike on behalf of Hunter Pike, Houston, Texas, Court of Federal Claims Number 03-0744V

47. Christina and Dominick Ciardiello on behalf of Christian Ciardiello, Houston, Texas, Court of Federal Claims Number 03-0745V

48. Lisa and Alan Mayberry on behalf of Reed Alan Mayberry, Houston, Texas, Court of Federal Claims Number 03-0746V

49. Myrna and David McLane on behalf of Kathryn McLane, Houston, Texas, Court of Federal Claims Number 03-0747V

50. Teresa Hodge on behalf of Bobby D. Hodge, II, Houston, Texas, Court of Federal Claims Number 03-0748V

51. Julie and Philip Holcomb on behalf of Philip A. Holcomb, Houston, Texas, Court of Federal Claims Number 03-0749V

52. Crystal and Michael Williams on behalf of Colin Williams, Houston, Texas, Court of Federal Claims Number 03-0750V

53. Theresa and Robert Winter on behalf of Alexis Winter, Houston, Texas, Court of Federal Claims Number 03-0751V

54. Susan Finley on behalf of Ryan Finley, Houston, Texas, Court of Federal Claims Number 03-0752V

55. Cheryl and Kevin Dass on behalf of Kyle Dass, Houston, Texas, Court of Federal Claims Number 03-0753V

56. Cheryl and Kevin Dass on behalf of Dillon Dass, Houston, Texas, Court of Federal Claims Number 03-0754V

57. Carla and John Pham on behalf of Jordan Pham, Houston, Texas, Court of Federal Claims Number 03-0755V

58. Katharine Sweet and Paul Steffen on behalf of Luke Anton Steffen, Houston, Texas, Court of Federal Claims Number 03-0756V

59. Rhonda and Billy Ray King, Jr. on behalf of Billy Ray King III, New Orleans, Louisiana, Court of Federal Claims Number 03-0757V

60. Elizabeth and Alfred Fargione on behalf of Ryan A. Fargione, Selkirk, New York, Court of Federal Claims Number 03-0758V

61. Jennifer and Scott Smith on behalf of Cameron S. Smith, Melbourne, Florida, Court of Federal Claims Number 03-0759V

62. Tanya and Ronald Schneider on behalf of Savannah Schneider, Deceased, Beaumont, Texas, Court of Federal Claims Number 03-0760V

63. Chris Craig on behalf of Spencer Craig, Houston, Texas, Court of Federal Claims Number 03-0762V

64. Samantha Uwainat on behalf of Mohammad Uwainat, Houston, Texas, Court of Federal Claims Number 03-0763V

65. Samantha Uwainat on behalf of Hasan Uwainat, Houston, Texas, Court of Federal Claims Number 03-0764V

66. Anna Press on behalf of Michael Press, Lake Success, New York, Court of Federal Claims Number 03-0765V

67. Lara and Nate Kitts on behalf of Taylor M. Kitts, Grand Rapids, Michigan, Court of Federal Claims Number 03-0769V

68. Andrea and Jim Cline on behalf of Samantha Marie Cline, Tampa, Florida, Court of Federal Claims Number 03-0770V

69. Lauren and Greg Sills on behalf of Daniel Sills, Los Angeles, California, Court of Federal Claims Number 03-0771V

70. Sharon Mondry on behalf of Zev Mondry, Great Neck, New York, Court of Federal Claims Number 03-0772V

71. Daphne and Sam Russell, Jr. on behalf of Sam Russell, III, Baton Rouge, Louisiana, Court of Federal Claims Number 03-0773V

72. Carol and Rodney Portier on behalf of Alayna Claire Portier, Baton Rouge, Louisiana, Court of Federal Claims Number 03-0774V

73. Angel and Dale Guillot on behalf of Jacob Guillot, Baton Rouge, Louisiana, Court of Federal Claims Number 03-0775V

74. Diane and William Green on behalf of William Arthur Green, Baton Rouge, Louisiana, Court of Federal Claims Number 03-0776V

75. Janice and James Square on behalf of Joseph Alexander Square, Baton Rouge, Louisiana, Court of Federal Claims Number 03-0777V

76. Joleen and Frank Smoorenburg on behalf of Nicole F. Smoorenburg, Baton Rouge, Louisiana, Court of Federal Claims Number 03-0778V

77. Tammy and Rory Coan on behalf of Harley Free Coan, Dadeville, Alabama, Court of Federal Claims Number 03-0779V

78. Rhonda and J. Bryant Moss on behalf of Jonathan Ryan Moss, Athens, Alabama, Court of Federal Claims Number 03-0780V

79. Debra and Donald Barnard, Jr. on behalf of Donald Alan Barnard, III, Dallas, Texas, Court of Federal Claims Number 03-0781V

80. Elizabeth Chatagnier on behalf of Michael Ragan, Boston, Massachusetts, Court of Federal Claims Number 03-0782V

81. Karen Fountaine on behalf of James Fountaine, Boston, Massachusetts, Court of Federal Claims Number 03-0783V

82. Gwendolyn and George Staab on behalf of Elijah Henry Staab, Peoria, Illinois, Court of Federal Claims Number 03-0784V

83. Jennifer and Ben Maglish on behalf of Brendan Maglish, Valparaiso, Indiana, Court of Federal Claims Number 03-0787V

84. Laura and Herbert Rose on behalf of Jason Michael Rose, Richmond, Virginia, Court of Federal Claims Number 03-0788V

85. Thomas K. Russo, Winchester, Virginia, Court of Federal Claims Number 03-0790V

86. Sara and Michael Difucci on behalf of Amanda Difucci, Bala Cynwyd, Pennsylvania, Court of Federal Claims Number 03-0791V

87. Rosenila and Russell Hlavac on behalf of Hannah Hlavac, Jacksonville, Florida, Court of Federal Claims Number 03-0792V

88. Susan and Joel Kabala on behalf of Camille Kabala, Omaha, Nebraska, Court of Federal Claims Number 03-0797V

89. Ernest Fischer, Washington, District of Columbia, Court of Federal Claims Number 03-0798V

90. Janet and Thomas Baker on behalf of Debra Jean Baker, Pittsburgh, Pennsylvania, Court of Federal Claims Number 03-0799V

91. Kim and Cory Tenbrook on behalf of Tyler Tenbrook, Decatur, Texas, Court of Federal Claims Number 03-0803V

92. Regina and Steve Davis on behalf of Tyler Davis, Decatur, Texas, Court of Federal Claims Number 03-0804V

93. Srena Petitt on behalf of Brennan Petitt, Miami, Florida, Court of Federal Claims Number 03-0806V

94. Kathy and Phil Boriskie on behalf of Matthew Boriskie, Miami, Florida, Court of Federal Claims Number 03-0807V

95. Sharon Jackson on behalf of Isaiah Jackson, Miami, Florida, Court of Federal Claims Number 03-0808V

96. Laura C. O'Brien on behalf of Tyler O'Brien Miami, Florida, Court of Federal Claims Number 03-0809V

97. Wendy Harnisher on behalf of Frank Harnisher, Miami, Florida, Court of Federal Claims Number 03-0810V

98. Cara and Todd James on behalf of Donte Ferencz, Miami, Florida, Court of Federal Claims Number 03-0811V

99. Tamara and Dennis Redman on behalf of Nicholas Redman, Miami, Florida, Court of Federal Claims Number 03-0812V

100. Rebecca and William Grove on behalf of Noah Grove, Miami, Florida, Court of Federal Claims Number 03-0813V

101. Luvenia L. Robertson on behalf of Mark J. Blakes-Robertson, Miami, Florida, Court of Federal Claims Number 03-0814V

102. Hailey E. Smith on behalf of Kenny Leon Dwyer, Jr., Miami, Florida, Court of Federal Claims Number 03-0815V

103. Sharnia Holyfield on behalf of Kahyll Holyfield, Miami, Florida, Court of Federal Claims Number 03-0816V

104. Cynthia and Ronald Hartman on behalf of Trent Hartman, Jacksonville, Florida, Court of Federal Claims Number 03-0817V

105. Leyda and John Cooksey on behalf of Kate Cooksey, Jacksonville, Florida, Court of Federal Claims Number 03-0818V

106. Janel and Kevin Lamb on behalf of Henry Lamb, Jacksonville, Florida, Court of Federal Claims Number 03-0819V

107. Robin and Roderick Pearson on behalf of Avery Pearson, Jacksonville, Florida, Court of Federal Claims Number 03-0820V

108. Robin and Roderick Pearson on behalf of Marshall Pearson, Jacksonville, Florida, Court of Federal Claims Number 03-0821V

109. Jill Miranda on behalf of Isaac Luis Miranda, Great Neck, New York, Court of Federal Claims Number 03-0822V

110. Margaret and Andrew Fahey on behalf of Zachary Thomas Fahey, Tampa, Florida, Court of Federal Claims Number 03-0824V

111. Margaret and Andrew Fahey on behalf of Joshua Patrick Fahey, Tampa, Florida, Court of Federal Claims Number 03-0825V

112. Tianna Scott on behalf of Marcus Scott, Boston, Massachusetts, Court of Federal Claims Number 03-0826V

113. Barbara Fritz on behalf of Logan Fritz, Boston, Massachusetts, Court of Federal Claims Number 03-0827V

114. Karen Foster on behalf of David Foster, Boston, Massachusetts, Court of Federal Claims Number 03-0828V

115. Kimberly Towa on behalf of Felix Towa, Jr., Boston, Massachusetts, Court of Federal Claims Number 03-0829V

116. Oliver Thaxter Harvey on behalf of Marcus Oliver Harvey, Miami, Florida, Court of Federal Claims Number 03-0830V

117. Angela Sexton on behalf of Jacob Sexton, Miami, Florida, Court of Federal Claims Number 03-0831V

118. Rosemary Madison on behalf of Nizeal Madison, Miami, Florida, Court of Federal Claims Number 03-0832V

119. Kerri L. Meyer on behalf of Samuel D. Meyer, Jr., Miami, Florida, Court of Federal Claims Number 03-0833V

120. Latonya Hargrave on behalf of Aaron Hargrave, Miami, Florida, Court of Federal Claims Number 03-0834V

121. Sally and John Marino on behalf of Benjamin J. Marino, New York, New York, Court of Federal Claims Number 03-0835V

122. Diane Puzio, Tucson, Arizona, Court of Federal Claims Number 03-0836V

123. Brenda Morehead on behalf of Chance Morehead, Cockeysville, Maryland, Court of Federal Claims Number 03-0837V

124. Eileen and Mark Kassner on behalf of Mitchell D. Kassner, Niskayuna, New York, Court of Federal Claims Number 03-0838V

125. Kimberly Bolt on behalf of Gerlad R. Reader, Springfield, Illinois, Court of Federal Claims Number 03-0840V

126. Gregory Seibt on behalf of Michael Seibt, Boston, Massachusetts, Court of Federal Claims Number 03-0841V

127. Claudia and Thomas Quintana on behalf of Cody Quintana, Greenfield Center, New York, Court of Federal Claims Number 03-0843V

128. Kimberly Wente on behalf of Adam Wente, Boston, Massachusetts, Court of Federal Claims Number 03-0844V

129. Philomena Roche on behalf of John Roche, Boston, Massachusetts, Court of Federal Claims Number 03-0845V

130. John Betz on behalf of Daniel Betz, Boston, Massachusetts, Court of Federal Claims Number 03-0846V

131. Anna Giuffrida on behalf of Giovanna Giuffrida, Boston, Massachusetts, Court of Federal Claims Number 03-0847V

132. Nancy Lleras on behalf of Felix Caraballo, Boston, Massachusetts, Court of Federal Claims Number 03-0848V

133. William W. Short, III on behalf of William W. Short, IV, Boston, Massachusetts, Court of Federal Claims Number 03-0849V

134. Kathleen Burke on behalf of Emma Burke, Boston, Massachusetts, Court of Federal Claims Number 03-0850V

135. Thomas Dzomba on behalf of Helena Dzomba, Boston, Massachusetts, Court of Federal Claims Number 03-0851V

136. Catherine Starr on behalf of Julianne Starr, Boston, Massachusetts, Court of Federal Claims Number 03-0852V

137. Julie Sullivan on behalf of Darren Sullivan, Boston, Massachusetts, Court of Federal Claims Number 03-0853V

138. Michelle and Edward Miller on behalf of Jackson Calhoun Miller, Dacula, Georgia, Court of Federal Claims Number 03-0854V

139. Aslinur and Ozcan Sirin on behalf of Efecan Sirin, Bala Cynwyd, Pennsylvania, Court of Federal Claims Number 03-0857V

140. Amanda Lee on behalf of Jacob Lee, Bala Cynwyd, Pennsylvania, Court of Federal Claims Number 03-0858V

141. Carolina and Marc Blouin on behalf of Eric Blouin, Bala Cynwyd, Pennsylvania, Court of Federal Claims Number 03-0859V

142. Corinda Crowther on behalf of Max Crowther, Bala Cynwyd, Pennsylvania, Court of Federal Claims Number 03-0860V

143. Terre and Kevin Kroeger on behalf of Christian Kroeger, Temecula, California, Court of Federal Claims Number 03-0863V

144. Jean Petani on behalf of Jonathan Tyler Petani, Dover, New Hampshire, Court of Federal Claims Number 03-0864V

145. Matthew Neyens, Vienna, Virginia, Court of Federal Claims Number 03-0868V

146. Amy Becker on behalf of Samuel Becker, Dallas, Texas, Court of Federal Claims Number 03-0869V

147. Lori and David Gilmour on behalf of Audrey Gilmour, Dallas, Texas, Court of Federal Claims Number 03-0870V

148. Teresa and Dennis Stuart on behalf of Denise Stuart, Griffin, Georgia, Court of Federal Claims Number 03-0872V

149. Michele Soto and Jesus Rodriguez on behalf of Alizaia Rodriguez, Deceased, Bethlehem, Pennsylvania, Court of Federal Claims Number 03-0873V

150. Michael Kamaka on behalf of Michael Caleb Kamaka, Boston, Massachusetts, Court of Federal Claims Number 03-0875V

151. Jackie Phillips on behalf of William Phillips, Boston, Massachusetts, Court of Federal Claims Number 03-0876V

152. Sherry and Craig Benke on behalf of Abigail Benke, Deceased, Boston, Massachusetts, Court of Federal Claims Number 03-0877V

153. Kimberly and Bernardo Amenabar on behalf of Alexander Amenabar, Vienna, Virginia, Court of Federal Claims Number 03-0879V

154. Dawn and Bill Taylor on behalf of Brandon Taylor, Vienna, Virginia, Court of Federal Claims Number 03-0880V

155. Charity Teitsma, Grand Rapids, Michigan, Court of Federal Claims Number 03-0881V

156. Joyce and Darrin Ninness on behalf of Emma Ninness, Concord, New Hampshire, Court of Federal Claims Number 03-0882V

157. Gordon Hester on behalf of Phillip Hester, Houston, Texas, Court of Federal Claims Number 03-0883V

158. Tracy Hill on behalf of Shaquella Hill, Houston, Texas, Court of Federal Claims Number 03-0884V

159. Oralee Hollington on behalf of Cedric Hollington, Houston, Texas, Court of Federal Claims Number 03-0885V

160. Evelyn Hollis on behalf of Cordaro Hollis, Houston, Texas, Court of Federal Claims Number 03-0886V

161. Stephanie Hooper on behalf of Monique Hooper, Houston, Texas, Court of Federal Claims Number 03-0887V

162. Dana Henderson on behalf of Jonas Henderson, Houston, Texas, Court of Federal Claims Number 03-0888V

163. Cynthia Howie on behalf of Stephen Howie, Houston, Texas, Court of Federal Claims Number 03-0889V

164. Ada Hudson on behalf of Timothy Hudson, Houston, Texas, Court of Federal Claims Number 03-0890V

165. Angela Huggins on behalf of John Huggins, Houston, Texas, Court of Federal Claims Number 03-0891V

166. Cynthia Jackson on behalf of Dale Jawauin Jackson, Houston, Texas, Court of Federal Claims Number 03-0892V

167. Tanger Harris on behalf of Ivan Harris, Houston, Texas, Court of Federal Claims Number 03-0893V

168. Sharon Hartwell on behalf of Darius Hartwell, Houston, Texas, Court of Federal Claims Number 03-0894V

169. Lawanda Teague on behalf of Marquies Teague, Houston, Texas, Court of Federal Claims Number 03-0895

170. Angela Street on behalf of Christopher Street, Houston, Texas, Court of Federal Claims Number 03-0896V

171. Janet Strasser-King on behalf of Vontrey Strasser-King, Houston, Texas, Court of Federal Claims Number 03-0897V

172. Latonya Taylor on behalf of Kiara Taylor, Houston, Texas, Court of Federal Claims Number 03-0898V

173. Tammy Stewart on behalf of Derron Stewart, Houston, Texas, Court of Federal Claims Number 03-0899V

174. Blondie Stewart on behalf of Joshua Stewart, Houston, Texas, Court of Federal Claims Number 03-0900V

175. Dayna Stender on behalf of Cheyenne Stender, Houston, Texas, Court of Federal Claims Number 03-0901V

176. Joyce Stamp-Garner on behalf of Matthew Stamp-Garner, Houston, Texas, Court of Federal Claims Number 03-0902V

177. Letria Spencer on behalf of Trevor Spencer, Houston, Texas, Court of Federal Claims Number 03-0903V

178. Debra Sowell on behalf of Jeremy Sowell, Houston, Texas, Court of Federal Claims Number 03-0904V

179. Stephanie Smith on behalf of Michael Jarrod Smith, Houston, Texas, Court of Federal Claims Number 03-0905V

180. Paul Smith on behalf of Sean Smith, Houston, Texas, Court of Federal Claims Number 03-0906V

181. Irma Slater on behalf of Shern Slater, Houston, Texas, Court of Federal Claims Number 03-0907V

182. Michelle Simmons on behalf of Aaron Simmons, Houston, Texas, Court of Federal Claims Number 03-0908V

183. Vonda Sifford on behalf of K'Wamane Sifford, Houston, Texas, Court of Federal Claims Number 03-0909V

184. Katrina Sherrod on behalf of Travon Sherrod, Houston, Texas, Court of Federal Claims Number 03-0910V

185. Linda Young on behalf of Trayvon Young, Houston, Texas, Court of Federal Claims Number 03-0911V

186. Glaster Russell on behalf of Shaheem Russell, Houston, Texas, Court of Federal Claims Number 03-0912V

187. Glaster Russell on behalf of Demarcus Russell, Houston, Texas, Court of Federal Claims Number 03-0913V

188. Belinda Russell on behalf of Aikerra Russell, Houston, Texas, Court of Federal Claims Number 03-0914V

189. Georgette Rush on behalf of Tyrone Rush, Houston, Texas, Court of Federal Claims Number 03-0915V

190. Tommie Rosier on behalf of Tommie Rosier, Houston, Texas, Court of Federal Claims Number 03-0916V

191. Katherine Robinson on behalf of Joshua Robinson, Houston, Texas, Court of Federal Claims Number 03-0917V

192. Suzette and Anthony Robinson on behalf of Jonathan Collin Robinson, Houston, Texas, Court of Federal Claims Number 03-0918V

193. Latanya Robertson on behalf of Christopher Robertson, Houston, Texas, Court of Federal Claims Number 03-0919V

194. Lyla Roberson on behalf of Arthur Roberson, Houston, Texas, Court of Federal Claims Number 03-0920V

195. Nicole Richardson on behalf of Michael A. Richardson, Houston, Texas, Court of Federal Claims Number 03-0921V

196. Rivia Rhodes on behalf of Nelson Rhodes, Houston, Texas, Court of Federal Claims Number 03-0922V

197. Tracey Renfro on behalf of Antony Renfro, Houston, Texas, Court of Federal Claims Number 03-0923V

198. Vicki Walsh on behalf of Riley Walsh, Houston, Texas, Court of Federal Claims Number 03-0924V

199. Pamela Walker on behalf of Joshua Walker, Houston, Texas, Court of Federal Claims Number 03-0925V

200. Heather Vaughn on behalf of Zachary Vaughn, Houston, Texas, Court of Federal Claims Number 03-0926V

201. Vicki Vanlandingham on behalf of Anderson Vanlandingham, Houston, Texas, Court of Federal Claims Number 03-0927V

202. Darlene Upson on behalf of Terreance Upson, Houston, Texas, Court of Federal Claims Number 03-0928V

203. Teresa Tucker on behalf of Cameron Tucker, Houston, Texas, Court of Federal Claims Number 03-0929V

204. Amber Trimpe on behalf of Gabriel Trimpe, Houston, Texas, Court of Federal Claims Number 03-0930V

205. Renee Treadaway on behalf of Brandon Treadaway, Houston, Texas, Court of Federal Claims Number 03-0931V

206. Dana Treadaway on behalf of Richard Treadaway, Houston, Texas, Court of Federal Claims Number 03-0932V

207. Kim Tizzard on behalf of Trevor Tizzard, Houston, Texas, Court of Federal Claims Number 03-0933V

208. Tina Thompson on behalf of Ramisha Natay Thompson, Houston, Texas, Court of Federal Claims Number 03-0934V

209. Tina Thompson on behalf of Natisha Thompson, Houston, Texas, Court of Federal Claims Number 03-0935V

210. Tina Thompson on behalf of Edward Thompson, Houston, Texas, Court of Federal Claims Number 03-0936V

211. Karen Thomas on behalf of Anthony Thomas, Houston, Texas, Court of Federal Claims Number 03-0937V

212. Diane Teasdell on behalf of Kalin Teasdell, Houston, Texas, Court of Federal Claims Number 03-0938V

213. Rick Sexton on behalf of Christopher Sexton, Houston, Texas, Court of Federal Claims Number 03-0939V

214. Donna Sawyer on behalf of Christopher Sawyer, Houston, Texas, Court of Federal Claims Number 03-0940V

215. Ranthai Sanders on behalf of Devin Sanders, Houston, Texas, Court of Federal Claims Number 03-0941V

216. Katherine Sanchez on behalf of Johnathan Sanchez, Houston, Texas, Court of Federal Claims Number 03-0942V

217. Aileen Sampson on behalf of Beandescent Sampson, Houston, Texas, Court of Federal Claims Number 03-0943V

218. Carroll Bumgarner on behalf of Lacey Bumgarner, Houston, Texas, Court of Federal Claims Number 03-0944V

219. Tamiqua Bryson on behalf of Eric Bryson, Houston, Texas, Court of Federal Claims Number 03-0945V

220. Tammy Brown on behalf of Cedric Brown, Houston, Texas, Court of Federal Claims Number 03-0946V

221. Sharmaine Brown on behalf of Raymond Brown, Houston, Texas, Court of Federal Claims Number 03-0947V

222. Pamela Brown on behalf of Dennis Brown, Houston, Texas, Court of Federal Claims Number 03-0948V

223. Felicia Brown on behalf of Terrell Brown, Houston, Texas, Court of Federal Claims Number 03-0949V

224. Bernestine Brown on behalf of Charles Brown, Jr., Houston, Texas, Court of Federal Claims Number 03-0950V

225. Donald Brooks on behalf of Chastity Brooks, Houston, Texas, Court of Federal Claims Number 03-0951V

226. Latricia Brisco on behalf of Jammie Brisco, Houston, Texas, Court of Federal Claims Number 03-0952V

227. Latricia Brisco on behalf of Atia Brisco, Houston, Texas, Court of Federal Claims Number 03-0953V

228. Rimma Brandin on behalf of Ariel Brandin, Houston, Texas, Court of Federal Claims Number 03-0954V

229. Cindy Bramblett on behalf of Tristan Bramblett, Houston, Texas, Court of Federal Claims Number 03-0955V

230. Patricia Boyette on behalf of Wade Boyette, Houston, Texas, Court of Federal Claims Number 03-0956V

231. Deborah Bowman on behalf of Antwan Bowman, Houston, Texas, Court of Federal Claims Number 03-0957V

232. Mary Bowes on behalf of John Henry Bowes, Houston, Texas, Court of Federal Claims Number 03-0958V

233. Rhonda Boucher on behalf of Jason Boucher, Houston, Texas, Court of Federal Claims Number 03-0959V

234. Subrene Blow on behalf of Jordan Blow, Houston, Texas, Court of Federal Claims Number 03-0960V

235. Tonya Blackman on behalf of Michael Blackman, Houston, Texas, Court of Federal Claims Number 03-0961V

236. Charlotte Bess on behalf of Octravious Bess, Houston, Texas, Court of Federal Claims Number 03-0962V

237. Tonya Atchison on behalf of Kenneth Atchison, Houston, Texas, Court of Federal Claims Number 03-0963V

238. Tara Anderson on behalf of Stephen Anderson, Houston, Texas, Court of Federal Claims Number 03-0964V

239. Linda Allen on behalf of Charles Allen, Houston, Texas, Court of Federal Claims Number 03-0965V

240. Susan Abruzzino on behalf of Conner Abruzzino, Houston, Texas, Court of Federal Claims Number 03-0966V

241. Margaret Autry on behalf of Jonathan Autry, Houston, Texas, Court of Federal Claims Number 03-0967V

242. Jessica Batts on behalf of Cody Batts, Houston, Texas, Court of Federal Claims Number 03-0968V

243. Carolyn Bautista on behalf of Juan Bautista, Houston, Texas, Court of Federal Claims Number 03-0969V

244. Amber Bennett on behalf of Brenden Bennett, Houston, Texas, Court of Federal Claims Number 03-0970V

245. Arleatrice Burroughs on behalf of Richards Burroughs, Houston, Texas, Court of Federal Claims Number 03-0971V

246. Tonya Burnett on behalf of Taeyon Burnett, Houston, Texas, Court of Federal Claims Number 03-0972V

247. Kristy Butler on behalf of Christopher Butler, Houston, Texas, Court of Federal Claims Number 03-0973V

248. Dana Butts on behalf of Christopher Butts, Houston, Texas, Court of Federal Claims Number 03-0974V

249. Leona Calkins on behalf of Cindy Calkins, Houston, Texas, Court of Federal Claims Number 03-0975V

250. Sarah Canipe on behalf of Timothy Canipe, Houston, Texas, Court of Federal Claims Number 03-0976V

251. Candace Capo on behalf of Ryan Capo, Houston, Texas, Court of Federal Claims Number 03-0977V

252. Laura Carpenter on behalf of Tyler Carpenter, Houston, Texas, Court of Federal Claims Number 03-0978V

253. Michelle Carr on behalf of Jacob Carr, Houston, Texas, Court of Federal Claims Number 03-0979V

254. Jeanne Carter on behalf of William Carter, Houston, Texas, Court of Federal Claims Number 03-0980V

255. Christie Barnes on behalf of Montay Barnes, Houston, Texas, Court of Federal Claims Number 03-0981V

256. Kim Barnes on behalf of Joseph Barnes, Houston, Texas, Court of Federal Claims Number 03-0982V

257. Joe Cash, Jr. on behalf of Joshua Cash, Jr., Houston, Texas, Court of Federal Claims Number 03-0983V

258. Rosalyn Catchings on behalf of Christopher Catchings, Houston, Texas, Court of Federal Claims Number 03-0984V

259. Norma Cates on behalf of Joshua Cates, Houston, Texas, Court of Federal Claims Number 03-0985V

260. Jane Chapman on behalf of Allan Chapman, Houston, Texas, Court of Federal Claims Number 03-0986V

261. Barbara Chastain on behalf of William A. Chastain, Houston, Texas, Court of Federal Claims Number 03-0987V

262. Rosalind Cleveland on behalf of Tiara Cleveland, Houston, Texas, Court of Federal Claims Number 03-0988V

263. Mary Collier on behalf of Jalarryic Collier, Houston, Texas, Court of Federal Claims Number 03-0989V

264. Phillie Moye on behalf of Trevor Moye, Houston, Texas, Court of Federal Claims Number 03-0990V

265. Courtney Morrison on behalf of Hunter Morrison, Houston, Texas, Court of Federal Claims Number 03-0991V

266. Nakta Morgan on behalf of Markeise Morgan, Houston, Texas, Court of Federal Claims Number 03-0992V

267. Shannon Moore on behalf of Tevin Moore, Houston, Texas, Court of Federal Claims Number 03-0993V

268. Kimberly Moore on behalf of Aaron Moore, Houston, Texas, Court of Federal Claims Number 03-0994V

269. Gloria Moore on behalf of Devin Moore, Houston, Texas, Court of Federal Claims Number 03-0995V

270. Christina Moore on behalf of Wayne A. Moore, Houston, Texas, Court of Federal Claims Number 03-0996V

271. Steve Miller on behalf of Ryan Miller, Houston, Texas, Court of Federal Claims Number 03-0997V

272. Cindy Miller on behalf of Alexander Miller, Houston, Texas, Court of Federal Claims Number 03-0998V

273. Robin Middleton on behalf of Carl Middleton, Houston, Texas, Court of Federal Claims Number 03-0999V

274. Julia Michael on behalf of Tyrese Michael, Houston, Texas, Court of Federal Claims Number 03-1000V

275. Tradisha Reid on behalf of Tanisha Reid, Houston, Texas, Court of Federal Claims Number 03-1001V

276. Carolina Nogal on behalf of Jose Nogal, Houston, Texas, Court of Federal Claims Number 03-1002V

277. Brenda Myers on behalf of Elijah Myers, Houston, Texas, Court of Federal Claims Number 03-1003V

278. George Mullen on behalf of Morgan Mullen, Houston, Texas, Court of Federal Claims Number 03-1004V

279. Gina Mull on behalf of Jovanny Mull, Houston, Texas, Court of Federal Claims Number 03-1005V

280. Emily Comer on behalf of Nicholas Comer, Houston, Texas, Court of Federal Claims Number 03-1006V

281. Virginia Covington on behalf of Christopher Covington, Houston, Texas, Court of Federal Claims Number 03-1007V

282. Beth Coward on behalf of Tyler K. Coward, Houston, Texas, Court of Federal Claims Number 03-1008V

283. Paula Craig on behalf of Keisha Craig, Houston, Texas, Court of Federal Claims Number 03-1009V

284. Jill Czysz on behalf of McKenzie Czysz, Houston, Texas, Court of Federal Claims Number 03-1010V

285. Veronica Daniel on behalf of Devon Daniel, Houston, Texas, Court of Federal Claims Number 03-1011V

286. Veronica Daniel on behalf of Jamone Daniel, Houston, Texas, Court of Federal Claims Number 03-1012V

287. Catina Davis on behalf of Jamar Davis, Houston, Texas, Court of Federal Claims Number 03-1013V

288. Moniques Davis on behalf of Corey Davis, Houston, Texas, Court of Federal Claims Number 03-1014V

289. Shannel Davis on behalf of Gerald Davis, Houston, Texas, Court of Federal Claims Number 03-1015V

290. Teresa Delaughter on behalf of Michael Delaughter, Houston, Texas, Court of Federal Claims Number 03-1016V

291. Beverly Dexter on behalf of Janay Dexter, Houston, Texas, Court of Federal Claims Number 03-1017V

292. Denica Dickens on behalf of Devonte Dickens, Houston, Texas, Court of Federal Claims Number 03-1018V

293. Angela Douglas on behalf of Ralesha Douglas, Houston, Texas, Court of Federal Claims Number 03-1019V

294. Iona Drake on behalf of Sterling Drake, Houston, Texas, Court of Federal Claims Number 03-1020V

295. Julie Drayton on behalf of Janarvis Drayton, Houston, Texas, Court of Federal Claims Number 03-1021V

296. Elaine Duke on behalf of Charleigh Duke, Houston, Texas, Court of Federal Claims Number 03-1022V

297. Alexis Dunbar on behalf of Christian Dunbar, Houston, Texas, Court of Federal Claims Number 03-1023V

298. Desiree Dupree on behalf of Dante Dupree, Houston, Texas, Court of Federal Claims Number 03-1024V

299. Shelley Dwyer on behalf of Gary Dean Dwyer, Houston, Texas, Court of Federal Claims Number 03-1025V

300. Mary Eakes on behalf of Michael Eakes, Houston, Texas, Court of Federal Claims Number 03-1026V

301. Robert Eddington on behalf of Robert Eddington, Houston, Texas, Court of Federal Claims Number 03-1027V

302. Sherronda Edge on behalf of Victor Edge, Houston, Texas, Court of Federal Claims Number 03-1028V

303. Mary Edwards on behalf of Annette Edwards, Houston, Texas, Court of Federal Claims Number 03-1029V

304. Jessica Evans on behalf of Wesley Evans, Houston, Texas, Court of Federal Claims Number 03-1030V

305. Lori Ellis on behalf of Jeremy Ellis, Houston, Texas, Court of Federal Claims Number 03-1031V

306. Mildred Flora on behalf of Ashley Flora, Houston, Texas, Court of Federal Claims Number 03-1032V

307. Debra Fisher on behalf of Bo Fisher, Houston, Texas, Court of Federal Claims Number 03-1033V

308. Judy Findlay on behalf of Shaquan Findlay, Houston, Texas, Court of Federal Claims Number 03-1034V

309. Francis Flynn on behalf of Casey Flynn, Houston, Texas, Court of Federal Claims Number 03-1035V

310. Christy Michael on behalf of Conner Michael, Houston, Texas, Court of Federal Claims Number 03-1036V

311. Jeni Merritt on behalf of Coleman Merritt, Houston, Texas, Court of Federal Claims Number 03-1037V

312. Sharon Melvin on behalf of Ashlyn Melvin, Houston, Texas, Court of Federal Claims Number 03-1038V

313. Queen Melvin on behalf of Braella Melvin, Houston, Texas, Court of Federal Claims Number 03-1039V

314. Fannie Means on behalf of Kenneth C. Means, Houston, Texas, Court of Federal Claims Number 03-1040V

315. Dennis McMahan on behalf of Miles McMahan, Houston, Texas, Court of Federal Claims Number 03-1041V

316. Tracy McLeod on behalf of Jacqueline McLeod, Houston, Texas, Court of Federal Claims Number 03-1042V

317. Angela McKinstry on behalf of Christpoher McKinstry, Houston, Texas, Court of Federal Claims Number 03-1043V

318. Sylvia Pope on behalf of Jonathan Pope, Houston, Texas, Court of Federal Claims Number 03-1044V

319. Susan Pineda on behalf of Austin Pineda, Houston, Texas, Court of Federal Claims Number 03-1045V

320. Karen Pierwola on behalf of Korie Pierwola, Houston, Texas, Court of Federal Claims Number 03-1046V

321. Rachelle Phillips on behalf of Terrica Phillips Houston, Texas, Court of Federal Claims Number 03-1047V

322. Joe Phillips on behalf of Tori Phillips, Houston, Texas, Court of Federal Claims Number 03-1048V

323. Sheila Perrigan on behalf of Jamel Perrigan, Houston, Texas, Court of Federal Claims Number 03-1049V

324. Sheila Perrigan on behalf of James Perrigan, Houston, Texas, Court of Federal Claims Number 03-1050V

325. Brenda Payne on behalf of Kenneth Brandon Payne, Houston, Texas, Court of Federal Claims Number 03-1051V

326. Lolita Parker on behalf of Mychael Parker, Houston, Texas, Court of Federal Claims Number 03-1052V

327. Terry Owenby on behalf of Alicia Owenby, Houston, Texas, Court of Federal Claims Number 03-1053V

328. Michelle Okafor on behalf of Kareem Okafor, Houston, Texas, Court of Federal Claims Number 03-1054V

329. Benita Odom on behalf of Jamie Odom, Houston, Texas, Court of Federal Claims Number 03-1055V

330. Stephanie Norwood on behalf of Cecily Norwood, Houston, Texas, Court of Federal Claims Number 03-1056V

331. Jeffrey Foster on behalf of Victoria Foster, Houston, Texas, Court of Federal Claims Number 03-1057V

332. Jennifer Fox on behalf of Elizabeth Fox, Houston, Texas, Court of Federal Claims Number 03-1058V

333. Jennifer Fox on behalf of Morgan Fox, Houston, Texas, Court of Federal Claims Number 03-1059V

334. Teresa Frix on behalf of Megan Frix, Houston, Texas, Court of Federal Claims Number 03-1060V

335. June and Ron Garnett on behalf of Pavi'elle Garnett, Houston, Texas, Court of Federal Claims Number 03-1061V

336. Kima Garten on behalf of Aaron Garten, Houston, Texas, Court of Federal Claims Number 03-1062V

337. Catherine Glenn on behalf of Marvetta Glenn, Houston, Texas, Court of Federal Claims Number 03-1063V

338. Willie Glenn on behalf of Joshua Glenn, Houston, Texas, Court of Federal Claims Number 03-1064V

339. Sylvia Golden on behalf of Garfield Golden, Houston, Texas, Court of Federal Claims Number 03-1065V

340. Dwayne Gore on behalf of Joshua Gore, Houston, Texas, Court of Federal Claims Number 03-1066V

341. James Gossett on behalf of Ryan Gossett, Houston, Texas, Court of Federal Claims Number 03-1067V

342. Rebecca Graham on behalf of Christopher Graham, Houston, Texas, Court of Federal Claims Number 03-1068V

343. Goldie Green on behalf of Rodney Green, Houston, Texas, Court of Federal Claims Number 03-1069V

344. Anastasia Greene on behalf of Tevin Greene, Houston, Texas, Court of Federal Claims Number 03-1070V

345. Crystal and Douglas Greer on behalf of Douglass Adam Greer, Houston, Texas, Court of Federal Claims Number 03-1071V

346. Carol Griffin on behalf of Dia-Jah Griffin, Houston, Texas, Court of Federal Claims Number 03-1072V

347. Melinda Harn on behalf of Lloyd Harn, Houston, Texas, Court of Federal Claims Number 03-1073V

348. Tanger Harris on behalf of Ethan Harris, Houston, Texas, Court of Federal Claims Number 03-1074V

349. Juanetha Young on behalf of Nicholas Young, Houston, Texas, Court of Federal Claims Number 03-1075V

350. Terry Yates on behalf of Lamar Yates, Houston, Texas, Court of Federal Claims Number 03-1076V

351. Joyce Reed on behalf of Matthew Reed, Houston, Texas, Court of Federal Claims Number 03-1077V

352. Meredith Redmon on behalf of Gavin Redmon, Houston, Texas, Court of Federal Claims Number 03-1078V

353. Clarinda Raysor on behalf of Justin Raysor, Houston, Texas, Court of Federal Claims Number 02-1079V

354. Nicole Rainey on behalf of Elinta Rainey, Houston, Texas, Court of Federal Claims Number 03-1080V

355. Jacqueline Purcell on behalf of Zacheriah Purcell, Houston, Texas, Court of Federal Claims Number 03-1081V

356. Teresa Pringle on behalf of Tyler Pringle, Houston, Texas, Court of Federal Claims Number 03-1082V

357. Sharron Pridgen on behalf of Kevin Pridgen, Houston, Texas, Court of Federal Claims Number 03-1083V

358. Contressa Porter on behalf of Dedrick Porter, Houston, Texas, Court of Federal Claims Number 03-1084V

359. Elouise Jackson-Montgomery on behalf of Jeremy Jackson-Montgomery, Houston, Texas, Court of Federal Claims Number 03-1085V

360. Christy Jameson on behalf of Isaiah Jameson, Houston, Texas, Court of Federal Claims Number 03-1086V

361. Tanya Jefferson on behalf of Elle Jefferson, Houston, Texas, Court of Federal Claims Number 03-1087V

362. Harry Johnson on behalf of Terence A. Johnson, Houston, Texas, Court of Federal Claims Number 03-1088V

363. Cynthia Johnson on behalf of Kerrie Ann Lee Johnson, Houston, Texas, Court of Federal Claims Number 03-1089V

364. Cynthia Johnson on behalf of Katelyn Joy Johnson, Houston, Texas, Court of Federal Claims Number 03-1090V

365. Lula Joe on behalf of Shanita Joe, Houston, Texas, Court of Federal Claims Number 03-1091V

366. Janet Martin on behalf of Justin Martin, Houston, Texas, Court of Federal Claims Number 03-1092V

367. James Martin on behalf of James Martin, Houston, Texas, Court of Federal Claims Number 03-1093V

368. Porsha Mason on behalf of Tre'von Mason, Houston, Texas, Court of Federal Claims Number 03-1094V

369. Latoya Mason on behalf of Henry Thomas Mason, Jr., Houston, Texas, Court of Federal Claims Number 03-1095V

370. Kimberly Martin on behalf of Yahtavion N. Martin, Houston, Texas, Court of Federal Claims Number 03-1096V

371. Paula Maye on behalf of Claudius Maye, Houston, Texas, Court of Federal Claims Number 03-1097V

372. Lisae Matutina on behalf of Rebecca Matutina, Houston, Texas, Court of Federal Claims Number 03-1098V

373. Alaine Mathis on behalf of Bibbie Mathis, Houston, Texas, Court of Federal Claims Number 03-1099V

374. Monica McCracken on behalf of Austin McCracken, Houston, Texas, Court of Federal Claims Number 03-1100V

375. Eva McCoy on behalf of Corwin McCoy, Houston, Texas, Court of Federal Claims Number 03-1101V

376. Russell McCollin on behalf of Kevin Ruddell McCollin, Houston, Texas, Court of Federal Claims Number 03-1102V

377. Janice McClendon on behalf of Curtis McClendon, Houston, Texas, Court of Federal Claims Number 03-1103V

378. Kathleen McKay on behalf of Ryan McKay, Houston, Texas, Court of Federal Claims Number 03-1104V

379. Coretta McKenzie on behalf of Khalid McKenzie, Houston, Texas, Court of Federal Claims Number 03-1105V

380. James McKenzie on behalf of Jahmezz McKenzie, Houston, Texas, Court of Federal Claims Number 03-1106V

381. James McKenzie on behalf of Jahrell McKenzie, Houston, Texas, Court of Federal Claims Number 03-1107V

382. James McKenzie on behalf of Jahnia McKenzie, Houston, Texas, Court of Federal Claims Number 03-1108V

383. James McKenzie on behalf of Tavaijah McKenzie, Houston, Texas, Court of Federal Claims Number 03-1109V

384. Karen Light on behalf of Derek Light, Houston, Texas, Court of Federal Claims Number 03-1110V

385. Louise Lettellier on behalf of Jacob Lettellier, Houston, Texas, Court of Federal Claims Number 03-1111V

386. Virginia Leake on behalf of Luciano Leake, Houston, Texas, Court of Federal Claims Number 03-1112V

387. Geraldine Lawrence on behalf of Randy Lawrence, Houston, Texas, Court of Federal Claims Number 03-1113V

388. Janice Lowry on behalf of Tevin Lowry, Houston, Texas, Court of Federal Claims Number 03-1114V

389. Margaret Lovick on behalf of Timothy Lovick, Houston, Texas, Court of Federal Claims Number 03-1115V

390. Bernadette Love on behalf of Scott Brandon Love, Houston, Texas, Court of Federal Claims Number 03-1116V

391. Bernadette Love on behalf of Galvin Brian Love, Houston, Texas, Court of Federal Claims Number 03-1117V

392. Dorothy Lott on behalf of Kimberly Lott, Houston, Texas, Court of Federal Claims Number 03-1118V

393. Carmen Lovsey on behalf of Erica Lovsey, Houston, Texas, Court of Federal Claims Number 03-1119V

394. Rebecca Johnson on behalf of Mitchell Johnson, Houston, Texas, Court of Federal Claims Number 03-1120V

395. Malaika Johnson on behalf of Brandon Johnson, Houston, Texas, Court of Federal Claims Number 03-1121V

396. Gwen Kirkpatrick on behalf of Cassidy Kirkpatrick, Houston, Texas, Court of Federal Claims Number 03-1122V

397. Orlene Knotts on behalf of Wesley S. Knotts, Houston, Texas, Court of Federal Claims Number 03-1123V

398. Charlene Kiser on behalf of Brandon Kiser, Houston, Texas, Court of Federal Claims Number 03-1124V

399. Melissa Littlejohn on behalf of Joshua Littlejohn, Houston, Texas, Court of Federal Claims Number 03-1125V

400. Donna Jones on behalf of Chipper Jones, Houston, Texas, Court of Federal Claims Number 03-1126V

401. Chastity Jones on behalf of Chestun Jones, Houston, Texas, Court of Federal Claims Number 03-1127V

402. Wanda Johnson on behalf of Jakeima Johnson, Houston, Texas, Court of Federal Claims Number 03-1128V

403. Stephanie King on behalf of Damesha King, Houston, Texas, Court of Federal Claims Number 03-1129V

404. Jacquelina Jones on behalf of Jhamichael Jones, Houston, Texas, Court of Federal Claims Number 03-1130V

405. Florence Jones on behalf of Devron Jones, Houston, Texas, Court of Federal Claims Number 03-1131V

406. Maher Yasin on behalf of Ibrahim Yasin, Houston, Texas, Court of Federal Claims Number 03-1132V

407. Maher Yasin on behalf of Anas Yasin, Houston, Texas, Court of Federal Claims Number 03-1133V

408. Jackie Wood on behalf of Ja'Kennen Wood, Houston, Texas, Court of Federal Claims Number 03-1134V

409. Kelly Wingate on behalf of David Wingate, Houston, Texas, Court of Federal Claims Number 03-1135V

410. Veronica Wilson on behalf of Jamique Wilson, Houston, Texas, Court of Federal Claims Number 03-1136V

411. Shirelyn Williams on behalf of Tyler Williams, Houston, Texas, Court of Federal Claims Number 03-1137V

412. Deborah Williams on behalf of Elizabeth Williams, Houston, Texas, Court of Federal Claims Number 03-1138V

413. Cynthia Williams on behalf of Quindon Williams, Houston, Texas, Court of Federal Claims Number 03-1139V

414. Cordell Williams on behalf of Rajuan Williams, Houston, Texas, Court of Federal Claims Number 03-1140V

415. Martha White on behalf of Thomas White, Houston, Texas, Court of Federal Claims Number 03-1141V

416. Dorine West on behalf of Alishaq West, Houston, Texas, Court of Federal Claims Number 03-1142V

417. Cosellars Weeks on behalf of Elizabeth Weeks, Houston, Texas, Court of Federal Claims Number 03-1143V

418. Jacqueline Weathersby on behalf of Quinton Weathersby, Houston, Texas, Court of Federal Claims Number 03-1144V

419. Tonya Washington on behalf of Demetrius Washington, Houston, Texas, Court of Federal Claims Number 03-1145V

420. Dawn Warncok on behalf of Grant Warncok, Houston, Texas Court of Federal Claims Number 03-1146V

421. Miranda Walton on behalf of Reginald Walton, Houston, Texas Court of Federal Claims Number 03-1147V

422. Andrea and Robert Clark on behalf of Jathan Clark, Houston, Texas, Court of Federal Claims Number 03-1148V

423. Angela Londy on behalf of Jarel Londy, Great Neck, New York, Court of Federal Claims Number 03-1149V

424. Michelle and Richard Steinweg on behalf of Mason Steinweg, Sarasota, Florida, Court of Federal Claims Number 03-1150V

425. Alice and Matthew King on behalf of Matthew King, Melbourne, Florida, Court of Federal Claims Number 03-1151V

426. Joanne and Dale Wood on behalf of Richard Wood, Dallas, Texas, Court of Federal Claims Number 03-1152V

427. Mary Ferguson on behalf of David Patrick Bradford, Tyler, Texas, Court of Federal Claims Number 03-1153V

428. Janice and Scott Moss on behalf of Amber Moss, New Orleans, Lousiana, Court of Federal Claims Number 03-1154V

429. Jessica Hernandez-King and Henry King on behalf of Jesse Jeremiah King, Brooklyn, New York, Court of Federal Claims Number 03-1156V

430. Dora Lucas on behalf of Amanda Lucas, Jackson, Mississippi, Court of Federal Claims Number 03-1159V

431. Debra and Steve Brow on behalf of Savannah Rose Brow, Worcester, Massachusetts, Court of Federal Claims Number 03-1160V

432. Lisa and James Watt on behalf of Nicholas James Watt, Boston, Massachusetts, Court of Federal Claims Number 03-1161V

433. Sandy and Ben Rippetoe on behalf of Wade Rippetoe, Vienna, Virginia, Court of Federal Claims Number 03-1162V

434. Alan Moses on behalf of Darryl Moses, Vienna, Virginia, Court of Federal Claims Number 03-1163V

435. Christina Cline on behalf of Kyle D. Cline, Deceased, Vienna, Virginia, Court of Federal Claims Number 03-1164V

436. William Slusher on behalf of Cody Slusher, Montgomery, Alabama, Court of Federal Claims Number 03-1165V

437. Laura Hewiston and Dan Hollenbeck on behalf of Joshua Hollenbeck, Dallas, Texas, Court of Federal Claims Number 03-1166V

438. Thelma Reyes-Richard on behalf of Collin Richard, Dallas, Texas, Court of Federal Claims Number 03-1167V

439. Pnina and Steve Batogower on behalf of David Paul Batogower, Houston, Texas, Court of Federal Claims Number 03-1168V

440. Stephanie Christian on behalf of Dylan Christian, Green Valley, Nevada, Court of Federal Claims Number 03-1169V

441. Robin and Glen Clark on behalf of George Marshall Clark, Alexandria, Virginia, Court of Federal Claims Number 03-1173V

442. Natalie Murphy on behalf of Connor D. Murphy, North Augusta, South Carolina, Court of Federal Claims Number 03-1174V

443. Kathy and Greg Musik on behalf of Gregory Cade Musik, Dallas, Texas, Court of Federal Claims Number 03-1175V

444. John Steven Richey on behalf of Nicholas Richey, Boston, Massachusetts, Court of Federal Claims Number 03-1176V

445. Lauralee O'Brien on behalf of Christian O'Brien, Boston, Massachusetts, Court of Federal Claims Number 03-1177V

446. Amy Springer on behalf of Chase Young, Boston, Massachusetts, Court of Federal Claims Number 03-1178V

447. Kerry Kiloski on behalf of Evan Bacon, Boston, Massachusetts, Court of Federal Claims Number 03-1179V

448. Marcus McCoy on behalf of Matthew McCoy, Boston, Massachusetts, Court of Federal Claims Number 03-1180V

449. Dawn Gibson on behalf of Carissa Gibson, Boston, Massachusetts, Court of Federal Claims Number 03-1181V

450. Laura Nealey on behalf of Phillip Nealey, Boston, Massachusetts, Court of Federal Claims Number 03-1182V

451. Nancy D'Erasmo on behalf of Alexander D'Erasmo, Boston, Massachusetts, Court of Federal Claims Number 03-1183V

452. Roxanne Barnett on behalf of Brandon Barnett, Boston, Massachusetts, Court of Federal Claims Number 03-1184V

453. Wayne Rogers on behalf of Rylan Rogers, Boston, Massachusetts, Court of Federal Claims Number 03-1185V

454. Scott Wiles on behalf of Rutger Wiles, Boston, Massachusetts, Court of Federal Claims Number 03-1186V

455. Jennifer Damian on behalf of Liam Kai Viruleg, Boston, Massachusetts, Court of Federal Claims Number 03-1187V

456. Brenda Steele on behalf of Mason Steele, Boston, Massachusetts, Court of Federal Claims Number 03-1188V

457. Eunice Aguwa on behalf of Chineyeze Aguwa, Boston, Massachusetts, Court of Federal Claims Number 03-1189V

458. Evelyn Ain on behalf of Matthew Ain, Great Neck, New York,Court of Federal Claims Number 03-1190V

459. April and Bill Parcells on behalf of MacKenzie Parcells, Wichita Falls, Texas Court of Federal Claims Number 03-1192V

460. Leah and Andrew McCormack on behalf of Ian Z. McCormack, Houston, Texas, Court of Federal Claims Number 03-1193V

461. Heather and Robert Hanson on behalf of Brendan Hanson, Houston, Texas, Court of Federal Claims Number 03-1194V

462. Gayle McDaniel on behalf of Matthew M. McDaniel, Houston, Texas, Court of Federal Claims Number 03-1195V

463. Charlita McPheeters and James McCartney on behalf of Hugh J. McCartney, Houston, Texas, Court of Federal Claims Number 03-1196V

464. Sonya and Matt Maini on behalf of Alisha Maini, Houston, Texas, Court of Federal Claims Number 03-1197V

465. Michelle Rice on behalf of Tyler Kinser, Houston, Texas, Court of Federal Claims Number 03-1198V

466. Julie and Philip Foster on behalf of Luke W. Foster, Houston, Texas, Court of Federal Claims Number 03-1199V

467. Kimberly and Theodore Stapinski behalf of Matthew S. Stapinski, Houston, Texas, Court of Federal Claims Number 03-1200V

468. Darwin Shaw on behalf of Gena Shaw, Houston, Texas, Court of Federal Claims Number 03-1201V

469. Maria and Timothy Dwyer on behalf of Colin R. Dwyer, Houston, Texas, Court of Federal Claims Number 03-1202V

470. Lourdes and Eric Cravello on behalf of Tristan Cravello, Houston, Texas, Court of Federal Claims Number 03-1203V

471. Diane and Richard Brown on behalf of Roman Brown, Houston, Texas, Court of Federal Claims Number 03-1204V

472. Mika Bradford on behalf of Jeffrey T. Williams, Houston, Texas, Court of Federal Claims Number 03-1205V

473. Mika Bradford on behalf of Jacob R. Williams, Houston, Texas, Court of Federal Claims Number 03-1206V

474. Cynthia and Mitchell Kelley on behalf of Phillip M. Kelley, Houston, Texas, Court of Federal Claims Number 03-1207V

475. Jennifer and Paul Greening on behalf of Courtney S. Greening, Houston, Texas, Court of Federal Claims Number 03-1208V

476. Lisa and Gary Sostack on behalf of Scott Sostack, Houston, Texas, Court of Federal Claims Number 03-1209V

477. Gerri and John McGaha on behalf of Zachary McGaha, Houston, Texas,Court of Federal Claims Number 03-1210V

478. Joey Baker on behalf of David Baker, Houston, Texas, Court of Federal Claims Number 03-1211V

479. Lisa and Gary Sostack on behalf of Scott Sostack, Houston, Texas, Court of Federal Claims Number 03-1212V

480. Lyhn Tran on behalf of Zachary Hoang, Chicago, Illinois, Court of Federal Claims Number 03-1213V

481. Suzette and Christopher Parish on behalf of Stefan Christopher Parish, Edmonds, Washington, Court of Federal Claims Number 03-1217V

482. Dana and Ryan Keen on behalf of, Austin Lee Miletich, Porter County, Indiana, Court of Federal Claims Number 03-1218V

483. Leslie and Donald Trone on behalf of Abigail Marie Trone, Saint Paul, Minnesota, Court of Federal Claims Number 03-1219V

484. Tammy and Charles Willard on behalf of Logan Michael Willard, Houston, Texas, Court of Federal Claims Number 03-1220V

485. Linda Cox on behalf of Brett Cox, Boston, Massachusetts, Court of Federal Claims Number 03-1221V

486. Tonya Skuse on behalf of Joseph Skuse, Boston, Massachusetts, Court of Federal Claims Number 03-1222V

487. Leeann Whiffen on behalf of Clay Whiffen, Boston, Massachusetts Court of Federal Claims Number 03-1223V

488. Theresa Black on behalf of Angelica Black, Vienna, Virginia Court of Federal Claims Number 03-1224V

489. Robert Romines on behalf of Ethan Taylor Romines, Tyler, Texas Court of Federal Claims Number 03-1225V

490. Barry Grimes on behalf of Isaac Mitchell Grimes, Tyler, Texas Court of Federal Claims Number 03-1226V

491. Donna and John Gushue on behalf of John Gushue, Abington, Pennsylvania Court of Federal Claims Number 03-1228V

492. Donna and Aaron Arndt on behalf of, Austin Arndt, Buford, Georgia Court of Federal Claims Number 03-1230V

493. Kristen Ah Yek on behalf of Priscilla Ah Yek, Portland, Oregon Court of Federal Claims Number 03-1231V

494. Devang Vyas on behalf of Aditya Vyas Portland, Oregon, Court of Federal Claims Number 03-1232V

495. Sarah Michelle Livingston-Adams on behalf of Julia Lyons Livingston-Adams Portland, Oregon, Court of Federal Claims Number 03-1233V

496. Tina and Daron Swafford on behalf of Joey Swafford, Austin, Texas, Court of Federal Claims Number 03-1234V

497. Mache and Kevin Liu on behalf of Nicholas Liu, Austin, Texas, Court of Federal Claims Number 03-1235V

498. Heidi and Peter Carabine on behalf of Collin Carabine, Austin, Texas, Court of Federal Claims Number 03-1236V

499. Laurie and Leslie Young on behalf of Leslie Martin Young, Austin, Texas, Court of Federal Claims Number 03-1237V

500. Darla and Ron Russak on behalf of Jordan Russak, Austin, Texas, Court of Federal Claims Number 03-1238V

501. Barbara Revis on behalf of Jerry D. Revis, Alexandria, Virginia, Court of Federal Claims Number 03-1241V

502. Jodi and Joseph Mercado on behalf of Anthony Mercado, Turnersville, New Jersey, Court of Federal Claims Number 03-1243V

503. Mary and Salim Hreish on behalf of Yousef Hreish, Macon, Georgia, Court of Federal Claims Number 03-1244V

504. Kelly and Richard Kerns on behalf of Kaylee A. Kerns, Lake Success, New York, Court of Federal Claims Number 03-1248V

505. Sue and Joe Elia on behalf of Rita Emanuel Elia, Dallas, Texas, Court of Federal Claims Number 03-1249V

506. Ellen and Steven Brandel on behalf of Michelle Brandel, Lake Success, New York, Court of Federal Claims Number 03-1250V

507. Maribel Ramos and Nelson Almanzar on behalf of Justin Almanzar, Lake Success, New York, Court of Federal Claims Number 03-1251V

508. Stacy Miller on behalf of Argie Miller, Boston, Massachusetts, Court of Federal Claims Number 03-1252V

509. Elizabeth Carper on behalf of Samantha Carper, Boston, Massachusetts, Court of Federal Claims Number 03-1253V

510. Sharon Berlin on behalf of Benjamin Berlin, Boston, Massachusetts, Court of Federal Claims Number 03-1254V

511. Darla Anderson on behalf of Micaiah Anderson, Boston, Massachusetts, Court of Federal Claims Number 03-1256V

512. Lisa Berrier on behalf of Nicholas Berrier, Boston, Massachusetts, Court of Federal Claims Number 03-1257V

513. Aurora Smith on behalf of Jeffrey Palmieri, Boston, Massachusetts, Court of Federal Claims Number 03-1258V

514. Jennifer Long on behalf of Colin Long, Boston, Massachusetts, Court of Federal Claims Number 03-1259V

515. Minerva Reyes on behalf of Taylor Reyes, Boston, Massachusetts, Court of Federal Claims Number 03-1260V

516. Wendy Parker on behalf of Ryen Hagen, Boston, Massachusetts, Court of Federal Claims Number 03-1261V

517. Carolyn Smith on behalf of Richard Smith, Boston, Massachusetts, Court of Federal Claims Number 03-1262V

518. Kim Osbourne on behalf of Clinton Leon Garrison, III, Houston, Texas, Court of Federal Claims Number 03-1263V

519. Angelee and Patrick Murphy on behalf of Justin Ray Murphy, Houston, Texas, Court of Federal Claims Number 03-1264V

520. Nelly and Edgar Munoz on behalf of Krista Munoz, Oceanside, New York, Court of Federal Claims Number 03-1265V

521. Patricia and Gregory desGroseilliers, on behalf of Robert Gregory desGroseilliers, Christiana, Delaware, Court of Federal Claims Number 03-1266V

522. Diana and Thomas Jacobs on behalf of Steven Christopher Jacobs, Williamstown, New Jersey, Court of Federal Claims Number 03-1267V

523. Darlene and Gardy Theodore on behalf of Patrick Theodore, Middletown, Connecticut, Court of Federal Claims Number 03-1268V

524. Dawn and Michael Nardi on behalf of Gia Stella Nardi, Haddonfield, New Jersey, Court of Federal Claims Number 03-1269V

525. Bertha Boswell on behalf of Shekirra Elousia Boswell, Selma, Alabama, Court of Federal Claims Number 03-1270V

526. Michelle Moore on behalf of Norfleet Caudle, Arlington, Virginia, Court of Federal Claims Number 03-1271V

527. Sheila and Herbert Smith on behalf of Tyrese M. Johns, New York, New York, Court of Federal Claims Number 03-1272V

528. Lisa Zehl on behalf of Matthew Zehl, Cliffwood Beach, New Jersey, Court of Federal Claims Number 03-1273V

529. Shauna and Robert Gurley on behalf of Jeremiah Gurley, Alexandria, Virginia, Court of Federal Claims Number 03-1275V

530. Rena Harris on behalf of Hakima Davis, New York, New York, Court of Federal Claims Number 03-1276V

531. Amanda and Michael Schwander, on behalf of Sabastian Tyler Schwander, Hamburg, New Jersey, Court of Federal Claims Number 03-1277V

532. Jo-Ann and Walter Perez on behalf of Mary Kathleen Perez, Newburgh, New York, Court of Federal Claims Number 03-1278V

533. Denise and James Varney on behalf of James Tyler Varney, Pleasonton, California, Court of Federal Claims Number 03-1279V

534. Laura Armstrong on behalf of Kelley Armstrong, Feasley, South Carolina, Court of Federal Claims Number 03-1280V

535. Mary and Albert Pavucek on behalf of Jenna Pavucek, Philadelphia, Pennsylvania, Court of Federal Claims Number 03-1285V

536. Eric Bernstein, Teaneck, New Jersey, Court of Federal Claims Number 03-1286V

537. Linda Sipes-Ryland, Ambridge, Pennsylvania, Court of Federal Claims Number 03-1288V

538. Julie Kimsala on behalf of Clover Yala, Charlotte, North Carolina, Court of Federal Claims Number 03-1289V

539. Regina and John Roach on behalf of Matthew-Isaac Ashanh Roach, Miami, Florida, Court of Federal Claims Number 03-1290V

540. Angela Johnson on behalf of Jeffrey W. Johnson, Jr., Miami, Florida, Court of Federal Claims Number 03-1291V

541. Suzanne Buerkett on behalf of Michael Buerkett, Miami, Florida, Court of Federal Claims Number 03-1292V

542. Ashley Poyner on behalf of Colin Reed Poyner, Murray, Kentucky, Court of Federal Claims Number 03-1293V

543. Valerie and Martin Grosso on behalf of Derrick Grosso, Huntington Beach, California, Court of Federal Claims Number 03-1294V

544. Carrie Hendricks on behalf of Adam Hendricks, Portland, Oregon, Court of Federal Claims Number 03-1295V

545. Vicki Gale on behalf of Courtney Gale, Portland, Oregon, Court of Federal Claims Number 03-1296V

546. Leslee Child on behalf of Grace Child, Portland, Oregon, Court of Federal Claims Number 03-1297V

547. Tammy Silbaugh and Charles Jacovetty on behalf of Jordan Jacovetty, Dallas, Texas, Court of Federal Claims Number 03-1298V

548. Lisa and Grant Garrett on behalf of Ethan Garrett, New York, New York, Court of Federal Claims Number 03-1299V

549. Amy Vitorino and Steven Bolte on behalf of Jeremiah Bolte, New York, New York, Court of Federal Claims Number 03-1300V

550. Arkadivsz Zarzycki and Bozena Zarzycka on behalf of Alan Zarzycki Garrett, New York, New York, Court of Federal Claims Number 03-1301V

551. Victoria and Nicholas Peetros on behalf of Alexander Peetros, New York, New York, Court of Federal Claims Number 03-1302V

552. Angela De La Fe and Wayne Joseph Drake, Sr. on behalf of Wayne Joseph Drake, Jr., Deceased, Crystal River, Florida, Court of Federal Claims Number 03-1303V

553. Teressa Adkins on behalf of Adaizhia Imani Gorham, Houston, Texas, Court of Federal Claims Number 03-1304V

554. Brandi Brown on behalf of Dugan Scott Brown, Houston, Texas, Court of Federal Claims Number 03-1305V

555. Neyla and Carlos Barajas on behalf of Victor Ivan Barajas, Houston, Texas, Court of Federal Claims Number 03-1306V

556. Melissa Basham on behalf of Andrew Todd Basham, Houston, Texas, Court of Federal Claims Number 03-1307V

557. Kristine and Christopher Naffziger on behalf of Zachary Robert Naffziger, Houston, Texas, Court of Federal Claims Number 03-1308V

558. Martha and Jaime Briceno on behalf of Christopher Briceno, Houston, Texas, Court of Federal Claims Number 03-1309V

559. Sonia and Edwin Asencio on behalf of Matthew J. Lucas Asencio, Houston, Texas, Court of Federal Claims Number 03-1310V

560. Deanna Armstrong on behalf of Christian Thomas Armstrong, Houston, Texas, Court of Federal Claims Number 03-1311V

561. Marsha Bach on behalf of Kyle Alan Merkich, Houston, Texas, Court of Federal Claims Number 03-1312V

562. Carol and Michael Barnes on behalf of David Michael Barnes, Houston, Texas, Court of Federal Claims Number 03-1313V

563. Carol Bittner on behalf of Matthew Aaron Bittner, Houston, Texas, Court of Federal Claims Number 03-1314V

564. Lori Long on behalf of Preston Long, Houston, Texas, Court of Federal Claims Number 03-1315V

565. Andrew Weis and Karen Kramer on behalf of Grant Kramer-Weis, Chevy Chase, Maryland, Court of Federal Claims Number 03-1318V

566. Amy and Mark Case on behalf of Zachary Scott Case, Richmond, Virginia, Court of Federal Claims Number 03-1319V

567. Debra and Dean Hoffman on behalf of Justin Michael Hoffman, Richmond, Virginia, Court of Federal Claims Number 03-1320V

568. Cheryl Parker on behalf of Dexter James Fitzpatrick, Jr., Houston, Texas, Court of Federal Claims Number 03-1321V

569. Robert Delair on behalf of Cody Delair, Houston, Texas, Court of Federal Claims, Number 03-1322V

570. Lilia and Luis Salazar on behalf of Miguel Aljandro Salazar, Houston, Texas, Court of Federal Claims Number 03-1323V

571. Sheila and Don Perry on behalf of Cody Ryan Hultquist, Houston, Texas, Court of Federal Claims Number 03-1324V

572. Linda and Paul Carter on behalf of Lacey Makayla Carter, Houston, Texas, Court of Federal Claims Number 03-1325V

573. Layla Blackburn and Tim Schoolcraft on behalf of Michael David Schoolcraft, Houston, Texas, Court of Federal Claims Number 03-1326V

574. Linda and Kevin Merritt on behalf of Hasani Dontay Merritt, Houston, Texas, Court of Federal Claims Number 03-1327V

575. Cherie Gouveia on behalf of Crystal Christina Saul, Houston, Texas, Court of Federal Claims Number 03-1328V

576. Gina Koester on behalf of Markie Koester, Houston, Texas, Court of Federal Claims Number 03-1329V

577. Irelsa Oliveras on behalf of Israel Adrian Morla Oliveras, Houston, Texas, Court of Federal Claims Number 03-1330V

578. Shirley Nelson on behalf of Jennifer Ashley Ray, Houston, Texas, Court of Federal Claims Number 03-1331V

579. Raquel and James Hallm on behalf of Joshua Lorezo Hallm Houston, Texas, Court of Federal Claims Number 03-1332V

580. Kimberly Ashwell on behalf of Nicholas Ashwell, Boston, Massachusetts, Court of Federal Claims Number 03-1333V

581. Nichole Laub on behalf of Joshua Laub, Boston, Massachusetts, Court of Federal Claims Number 03-1334V

582. Alcinda Walters on behalf of Tyler Walters, Boston, Massachusetts, Court of Federal Claims Number 03-1335V

583. Reinaldo Zavala and Velez Carazo on behalf of Karina Nahomi Zavala Velez, Hato Rey, Puerto Rico, Court of Federal Claims Number 03-1337V

584. Myrtle Little on behalf of Keisha Little, Boston, Massachusetts, Court of Federal Claims Number 03-1338V

585. Idania Torres on behalf of Isaiah Torres, Boston, Massachusetts, Court of Federal Claims Number 03-1339V

586. Steven Schwartz on behalf of Steven Schwartz, II, Boston, Massachusetts, Court of Federal Claims Number 03-1340V

587. Angeles Leal on behalf of Andres Leal, Boston, Massachusetts, Court of Federal Claims Number 03-1341V

588. Jessika Andrews on behalf of Wyatt Andrews, Boston, Massachusetts, Court of Federal Claims Number 03-1342V

589. Bethanne and Scott Schrecengost on behalf of Anthony Schrecengost, Melbourne, Florida, Court of Federal Claims Number 03-1343V

590. Sue and David Miller on behalf of Alexander Miller, New Orleans, Louisiana, Court of Federal Claims Number 03-1344V

591. Dawna and Eric Knight on behalf of Eric Daniel Knight, II, Houston, Texas, Court of Federal Claims Number 03-1349V

592. Oswalda Pubill on behalf of Herminio Anthony Correa, Houston, Texas, Court of Federal Claims Number 03-1350V

593. Roxanne Myers on behalf of Dylan Maughton McDuffee, Houston, Texas, Court of Federal Claims Number 03-1351V

594. Maricruz and Michael Levine on behalf of Alec Keith Levine, Houston, Texas, Court of Federal Claims Number 03-1352V

595. Barbara McKenzie on behalf of Ethan Lee McKenzie, Houston, Texas, Court of Federal Claims Number 03-1353V

596. Michele and Byron King on behalf of Kyndel Helen Rose King, Houston, Texas, Court of Federal Claims Number 03-1354V

597. Kelly and Ricky Goins on behalf of Dalton Bryce Goins, Houston, Texas, Court of Federal Claims Number 03-1355V

598. Alejandra and Miguel Orozco on behalf of Miguel Alegjandro Orozco, Houston, Texas, Court of Federal Claims Number 03-1356V

599. Bettina and Thomas Pickering on behalf of Thomas L. Pickering, Houston, Texas, Court of Federal Claims Number 03-1357V

600. Lisa Thomas on behalf of Christian Thomas, Houston, Texas, Court of Federal Claims Number 03-1358V

601. Yadira Garcia on behalf of Marcos Cortez, Houston, Texas, Court of Federal Claims Number 03-1359V

602. Christina Bylsma on behalf of Shane Conley, Houston, Texas, Court of Federal Claims Number 03-1360V

603. April and Thomas Miller on behalf of Amanda Dawn Miller, Houston, Texas, Court of Federal Claims Number 03-1361V

604. Rochelle and John McKinney on behalf of Faith Love Irwin, Houston, Texas, Court of Federal Claims Number 03-1362V

605. Betty and Patrick Furphy on behalf of Mark Joseph Furphy, Houston, Texas, Court of Federal Claims Number 03-1363V

606. Kathy and Dave Morrison on behalf of Kyle Alan Morrison, Houston, Texas, Court of Federal Claims Number 03-1364V

607. Kate and McMillan Ogbughi on behalf of Maximillan Chikanma Ogbughi, Houston, Texas, Court of Federal Claims Number 03-1365V

608. Sherry and Dennis Riddell on behalf of Nicholas Andrew Riddell, Houston, Texas, Court of Federal Claims Number 03-1366V

609. Marion and Kenneth Neal on behalf of Adrianne Nicole Neal, Houston, Texas, Court of Federal Claims Number 03-1367V

610. Shelly Donohue on behalf of Riley A. Donohue, Houston, Texas, Court of Federal Claims Number 03-1368V

611. George McElroy on behalf of George William McElroy, V, Houston, Texas, Court of Federal Claims Number 03-1369V

612. Michelle and Daniel Murray on behalf of Courtney Joann Murray, Houston, Texas, Court of Federal Claims Number 03-1370V

613. Jennifer and Kevin Christian on behalf of Kevin Richard Christian, Jr., Houston, Texas, Court of Federal Claims Number 03-1371V

614. Richard Robinson and Shaila McCleese on behalf of Clayton McCleese, Houston, Texas, Court of Federal Claims Number 03-1372V

615. Lukman Latona on behalf of Oluwatoni Dabi Latona, Houston, Texas, Court of Federal Claims Number 03-1373V

616. Latisha Bethel on behalf of DeQuan Lamont Bethel, Houston, Texas, Court of Federal Claims Number 03-1374V

617. Nicole Broda on behalf of Justin Broda, Houston, Texas, Court of Federal Claims Number 03-1375V

618. Laneika Curley on behalf of Juan Ye Deshaun Jackson, Houston, Texas, Court of Federal Claims Number 03-1376V

619. Andrea Castellano on behalf of Anthony J. Castellano, Houston, Texas, Court of Federal Claims Number 03-1377V

620. Valerie Buckley on behalf of Vincent Blaise Buckley, Houston, Texas, Court of Federal Claims Number 03-1378V

621. Eileen and Michael Becker on behalf of Trevor Scott Becker, Houston, Texas, Court of Federal Claims Number 03-1379V

622. Pearl Cavazos on behalf of Paul M. Cavazos, Houston, Texas, Court of Federal Claims Number 03-1380V

623. Sharon and Marvin Lipschitz on behalf of Fay Lipschitz, Houston, Texas, Court of Federal Claims Number 03-1381V

624. Melissa and Christopher Jones on behalf of Ryan Creel Jones, Houston, Texas, Court of Federal Claims Number 03-1382V

625. Joseph Loughlin on behalf of Brandon Zachery Loughlin, Houston, Texas, Court of Federal Claims Number 03-1383V

626. Felicia and Augustin Gonzalez on behalf of Augustin Gonzalez, Jr., Houston, Texas, Court of Federal Claims Number 03-1384V

627. Therese and Tim Bercyzk on behalf of Nicholas Eugene Bercyzk, Houston, Texas, Court of Federal Claims Number 03-1385V

628. Francis Ruiz on behalf of Alexander Guerrero, Jr., Houston, Texas, Court of Federal Claims Number 03-1386V

629. Laura and JR Black on behalf of Cameron A. Black, Houston, Texas, Court of Federal Claims Number 03-1387V

630. Kelly and Matthew Bowerman on behalf of Perrin W. Bowerman, Houston, Texas, Court of Federal Claims Number 03-1388V

631. Anissa Walker on behalf of Sean Christopher Walker, Houston, Texas, Court of Federal Claims Number 03-1391V

632. Lashay Spencer on behalf of Jene Javon Douglas Spencer, Houston, Texas, Court of Federal Claims Number 03-1392V

633. Valerie Stallworth on behalf of William Michael Stallworth, Houston, Texas, Court of Federal Claims Number 03-1393V

634. Rose Vicks on behalf of Laron Keith Huff, Houston, Texas, Court of Federal Claims Number 03-1394V

635. Tina Woskobunik on behalf of Kyle Paul Orozco, Houston, Texas, Court of Federal Claims Number 03-1395V

636. Emily Vie Brooks on behalf of Arrienne Leigh Begley, Houston, Texas, Court of Federal Claims Number 03-1396V

637. Adrienne Wojcik on behalf of Michael Mojcik, Houston, Texas, Court of Federal Claims Number 03-1397V

638. Priscilla Quesada on behalf of Brandon Anthony Quesada, Houston, Texas, Court of Federal Claims Number 03-1398V

639. Milya Gemal on behalf of Isaac Marshall Gemal, Houston, Texas, Court of Federal Claims Number 03-1399V

640. Janet Rivera on behalf of Ashan Alias Ortiz, Houston, Texas, Court of Federal Claims Number 03-1400V

641. Joyce and Dean Scott on behalf of Samuel Dean Scott, Houston, Texas, Court of Federal Claims Number 03-1401V

642. Edwina Sharp on behalf of Chandler Brisbane Comer, Houston, Texas, Court of Federal Claims Number 03-1402V

643. Janet Russum on behalf of Randi Russum, Boston, Massachusetts, Court of Federal Claims Number 03-1403V

644. Lisa Menne on behalf of Jake Menne, Boston, Massachusetts, Court of Federal Claims Number 03-1404V

645. Barbara Fox on behalf of Sean Fox, Boston, Massachusetts, Court of Federal Claims Number 03-1405V

646. Marilyn Riley on behalf of William Nicholas Riley, Boston, Massachusetts, Court of Federal Claims Number 03-1406V

647. Dawn Meyers on behalf of Parker Meyers, Boston, Massachusetts, Court of Federal Claims Number 03-1407V

648. Ellen Shanberg on behalf of Cameron Shanberg, Boston, Massachusetts, Court of Federal Claims Number 03-1408V

649. Wendy Aston on behalf of Timoteo Aston, Boston, Massachusetts, Court of Federal Claims Number 03-1409V

650. Katherine Chachere on behalf of Elise Chachere, Boston, Massachusetts, Court of Federal Claims Number 03-1410V

651. Kristena Wilson on behalf of Tiana Wilson, Boston, Massachusetts, Court of Federal Claims Number 03-1411V

652. Alcinda Walters on behalf of Tyler Walters, Boston, Massachusetts, Court of Federal Claims Number 03-1412V

653. Lori Fleming on behalf of Luke Fleming, Boston, Massachusetts, Court of Federal Claims Number 03-1413V

654. Amie Gibbons on behalf of Blaine Esser, Dallas, Texas, Court of Federal Claims Number 03-1414V

655. Holly and Henry Blackmon on behalf of Adam Blackmon, Dallas, Texas, Court of Federal Claims Number 03-1415V

656. Tiffany Sanders on behalf of Tyan Marie Green, Vienna, Virginia, Court of Federal Claims Number 03-1419V

657. Satra Dee Zurita on behalf of Armani Taylor, Harbor City, California, Court of Federal Claims Number 03-1421V

658. Karen and John Best on behalf of Samuel Best, Concord, New Hampshire, Court of Federal Claims Number 03-1422V

659. Lisa Hendry on behalf of Christopher Gyorok, New York, New York, Court of Federal Claims Number 03-1423V

660. Lainie and Jamyson Villa on behalf of Elijah Matthew Villa, Houston, Texas, Court of Federal Claims Number 03-1425V

661. Meri and Shawn Kelly on behalf of Daniel Laurence Kelly, Houston, Texas, Court of Federal Claims Number 03-1426V

662. Melanie Villa on behalf of Elise Marie Villa, Houston, Texas, Court of Federal Claims Number 03-1427V

663. Maria Gonzalez and Manuel Mendoza on behalf of Alberto D. Mendoza, Houston, Texas, Court of Federal Claims Number 03-1428V

664. Deborah West on behalf of Corbin Andrew West, Houston, Texas, Court of Federal Claims Number 03-1429V

665. Julie and Leon Virnig on behalf of Mariah Anne Virnig, Houston, Texas, Court of Federal Claims Number 03-1430V

666. John Thompson on behalf of Elijah J. Thompson, Houston, Texas, Court of Federal Claims Number 03-1431V

667. Leanne Copertino and Michael Wands on behalf of Michael William Wands, Houston, Texas, Court of Federal Claims Number 03-1432V

668. Stacey and Timothy Boger on behalf of Ravyn Chante Boger, Olathe, Kansas, Court of Federal Claims Number 03-1434V

669. Stephany Dunn and Hughton Fuller on behalf of Omar S. Fuller, Melbourne, Florida, Court of Federal Claims Number 03-1435V

670. Catherine MacKrell on behalf of Matthew MacKrell, Great Neck, New York, Court of Federal Claims Number 03-1436V

671. Alex Olsen and Lisa Worden on behalf of Nicholas Worden, Great Neck, New York, Court of Federal Claims Number 03-1437V

672. Karen Rea on behalf of Harrison Rea, Great Neck, New York, Court of Federal Claims Number 03-1438V

673. Donna Marie and Robert Hintelmann on behalf of Erik Martin Hintelmann, Great Neck, New York, Court of Federal Claims Number 03-1439V

674. Sarah and H. Grady McElyea on behalf of Seth McElyea, Dallas, Texas, Court of Federal Claims Number 03-1440V

675. Sharon and Ron Salazar on behalf of Ronnie Salazar, Taos, New Mexico, Court of Federal Claims Number 03-1441V

676. Katie and Richard Thomas on behalf of Connor Thomas, Jacksonville, Florida, Court of Federal Claims Number 03-1442V

677. Janice Lein on behalf of Kristopher Patterson, Sarasota, Florida, Court of Federal Claims Number 03-1443V

678. Lori Kay Masterson on behalf of Keith Patrick Masterson, Somers Point, New Jersey, Court of Federal Claims Number 03-1445V

679. Kathy and William Gerhardt on behalf of Jeffrey W. Gerhardt, Egg Harbor City, New Jersey, Court of Federal Claims Number 03-1448V

680. Tiffany Sanders on behalf of Tyan Marie Green, Vienna, Virginia, Court of Federal Claims Number 03-1449V

681. Mary Dellavalle on behalf of Jacob Michael Dellavalle, Houston, Texas, Court of Federal Claims Number 03-1450V

682. Cheryl and Randy McCall on behalf of Caroline Ann McCall, Houston, Texas, Court of Federal Claims Number 03-1451V

683. Christine and John Dunn on behalf of Joseph Michael Dunn, Houston, Texas, Court of Federal Claims Number 03-1452V

684. Yesenia and Juan Reyes on behalf of Elieser I. Reyes, Houston, Texas, Court of Federal Claims Number 03-1453V

685. Shelia and John Penrose on behalf of Ryan J. Penrose, Houston, Texas, Court of Federal Claims Number 03-1454V

686. Angela Schaffer on behalf of Kyra Denise Schaffer, Houston, Texas, Court of Federal Claims Number 03-1455V

687. Linda Puckett on behalf of Brittany L. Puckett, Houston, Texas, Court of Federal Claims Number 03-1456V

688. Collett Tillett on behalf of Collett Edward Tillett, Jr., Houston, Texas, Court of Federal Claims Number 03-1457V

689. Raynite Corbin on behalf of Justin Durrell Corbin, Houston, Texas, Court of Federal Claims Number 03-1458V

690. Karla and Jose Martinez on behalf of Jessica Leigh Martinez, Houston, Texas, Court of Federal Claims Number 03-1459V

691. Wendy and Todd Fout on behalf of Noah Matthew Fout, Houston, Texas, Court of Federal Claims Number 03-1460V

692. Constance and Scott Dunham on behalf of Dale Dunham, Houston, Texas, Court of Federal Claims Number 03-1461V

693. Amber and Rick Schuster on behalf of Rickey Schuster, Houston, Texas, Court of Federal Claims Number 03-1462V

694. Elliot Rubin on behalf of Zipporak Teresa Rubin, Houston, Texas, Court of Federal Claims Number 03-1463V

695. Monica Vaughn on behalf of Jaicob Elijah Lamont Ross, Houston, Texas, Court of Federal Claims Number 03-1464V

696. Cecilia and Geoffrey Hall on behalf of Griffin Hall, Houston, Texas, Court of Federal Claims Number 03-1465V

697. Rachel and Paul Terry on behalf of James Cooper Terry, Houston, Texas, Court of Federal Claims Number 03-1466V

698. Tamara and Ronald Peterson on behalf of Taylor Nicole Peterson, Houston, Texas, Court of Federal Claims Number 03-1467V

699. Sally and Raymond Everhart on behalf of Halie Rae Everhart, Houston, Texas, Court of Federal Claims Number 03-1468V

700. Michelle and Carlos Sanchez on behalf of Adrian Carlos Estranda, Houston, Texas, Court of Federal Claims Number 03-1469V

701. Ivonne Valez on behalf of Darien Richard Crespo, Houston, Texas, Court of Federal Claims Number 03-1470V

702. Reeva Worsley and Reeva Lacayo on behalf of Sergio Alexander Lacayo, Houston, Texas, Court of Federal Claims Number 03-1471V

703. Martha Widner on behalf of Spencer D. Widner, Houston, Texas, Court of Federal Claims Number 03-1472V

704. Lucia Olarerin on behalf of Olanlaoluwa Mokiolu Olajuwon, Houston, Texas, Court of Federal Claims Number 03-1473V

705. Disa and Peter Orosz on behalf of Kyle David Orosz, Houston, Texas, Court of Federal Claims Number 03-1474V

706. Christina and Steven Mullins on behalf of Austin Ray Mullins, Houston, Texas, Court of Federal Claims Number 03-1475V

707. Cynthia and Gary Merrill on behalf of Ryan Charles Mashen, Houston, Texas, Court of Federal Claims Number 03-1476V

708. Jane Gathuo on behalf of Kagua Njenga, Houston, Texas, Court of Federal Claims Number 03-1477V

709. Patricia and Conrad Silk on behalf of Lance Conrad Silk, Houston, Texas, Court of Federal Claims Number 03-1478V

710. Mary Anne and Jim Pelletier on behalf of Zachary Pelletier, Houston, Texas, Court of Federal Claims Number 03-1479V

711. Latoya and Christian Lowe on behalf of X-Zavion Ja'Quavious Lowe, Houston, Texas, Court of Federal Claims Number 03-1480V

712. Connie Taylor on behalf of Ashley Dawn Strait, Houston, Texas, Court of Federal Claims Number 03-1481V

713. Robin and Robert Delaney on behalf of Joshua Robert Delaney, Houston, Texas, Court of Federal Claims Number 03-1482V

714. Houria Hrieche on behalf of Brianna Lopez, Houston, Texas, Court of Federal Claims Number 03-1483V

715. Robin and Gilbert Reynoso on behalf of Breanna Gail Reynoso, Houston, Texas, Court of Federal Claims Number 03-1484V

716. Tamerria and Charles Fagan on behalf of TailaChante Fagan, Houston, Texas, Court of Federal Claims Number 03-1485V

717. Laura and Alejandro Poli on behalf of Alejandro Poli, III, Houston, Texas, Court of Federal Claims Number 03-1486V

718. Donna and Jeffrey Dodson on behalf Dianna Nicole Dodson, Houston, Texas, Court of Federal Claims Number 03-1487V

719. Kelly and Anthony Mann on behalf of Daniel Christopher Mann, Houston, Texas, Court of Federal Claims Number 03-1488V

720. Frankie Story on behalf of Dominick Juan Diego, Houston, Texas, Court of Federal Claims Number 03-1489V

721. Latasha Curry on behalf of Latonya Tanasia Curry, Houston, Texas, Court of Federal Claims Number 03-1490V

722. Bernice Johnson on behalf of Shaymear Levourgiea Johnson, Houston, Texas, Court of Federal Claims Number 03-1491V

723. Judy Smitty on behalf of Catherine Lee Paige Smitty, Houston, Texas, Court of Federal Claims Number 03-1492V

724. Irene Miller on behalf of Robert Miller, Houston, Texas, Court of Federal Claims Number 03-1493V

725. Zeyda Bernabe on behalf of Anthony Bernabe, Kissimmee, Florida, Court of Federal Claims Number 03-1494V

726. Melody and Jody Cannady on behalf of Joshua Cannady, Vienna, Virginia, Court of Federal Claims Number 03-1495V

727. Ashley Martin on behalf of Michael Martin, Vienna, Virginia, Court of Federal Claims Number 03-1496V

728. Melody and Jody Cannady on behalf of Jacob Cannady, Vienna, Virginia, Court of Federal Claims Number 03-1497V

729. Joseph Van Goethem, Vienna, Virginia, Court of Federal Claims Number 03-1498V

730. Rhonda and Thomas Williams on behalf of Thomas Meada Williams, VI, Cape Girardeau, Missouri, Court of Federal Claims Number 03-1504V

731. Lisa and John DeSherlia on behalf of Hannah Elizabeth DeSherlia, Cape Girardeau, Missouri, Court of Federal Claims Number 03-1505V

732. Betty Jane Berry on behalf of Marvin T. Berry, Deceased, Cottonwood, Idaho, Court of Federal Claims Number 03-1506V

733. Anthony Esposito on behalf of Kelley (Cramer) Esposito, Alexandria, Virginia, Court of Federal Claims Number 03-1507V

734. Holly and Carlton Fisher on behalf of Emilee Fisher, Bartlett, Tennessee, Court of Federal Claims Number 03-1510V

735. Dawn Wedemeyer on behalf of Jarod Wedemeyer, Houston, Texas, Court of Federal Claims Number 03-1511V

736. Diane Stott on behalf of Michael Stott, Houston, Texas, Court of Federal Claims Number 03-1512V

737. Adrienne Roussean on behalf of Alexander Roussean, Houston, Texas, Court of Federal Claims Number 03-1513V

738. Sara Puffett on behalf of Shaylynn Puffett, Houston, Texas, Court of Federal Claims Number 03-1514V

739. Rafael and Bente Medina on behalf of Paloma Medina, Houston, Texas, Court of Federal Claims Number 03-1515V

740. Jacqueline Moynihan on behalf of Ryan Moynihan, Houston, Texas, Court of Federal Claims Number 03-1516V

741. Carolyn and Matthew Herc on behalf of Jonathan Herc, Houston, Texas, Court of Federal Claims Number 03-1517V

742. Heather Haggerty on behalf of Pedraic Haggerty, Houston, Texas, Court of Federal Claims Number 03-1518V

743. Janet Fabricius on behalf of Justin Jerry Fabricius, Houston, Texas, Court of Federal Claims Number 03-1519V

744. Margaret and Sean Donoghue on behalf of Kevin Michael Donoghue, Houston, Texas, Court of Federal Claims Number 03-1520V

745. Michele Coffey on behalf of Grace Elizabeth Coffey, Houston, Texas, Court of Federal Claims Number 03-1521V

746. Grisel Gonzalez-Diaz on behalf of Jennifer Alvarez-Martinez, Houston, Texas, Court of Federal Claims Number 03-1522V

747. Janet and Ronnie Boyer on behalf of Noah Boyer, Houston, Texas, Court of Federal Claims Number 03-1523V

748. Beth and Michael Lanier on behalf of William Lanier, Houston, Texas, Court of Federal Claims Number 03-1524V

749. Elizabeth and Chris Rupp on behalf of Isabella Rupp, Houston, Texas, Court of Federal Claims Number 03-1525V

750. Lisa and Rodney Calvert on behalf of Rodney J. Calvert, Kansas City, Missouri, Court of Federal Claims Number 03-1526V

751. Alisa Peters on behalf of Brayden Rafferty, Boston, Massachusetts, Court of Federal Claims Number 03-1527V

752. Gloria Martinez on behalf of William R. Wilson, III, Boston, Massachusetts, Court of Federal Claims Number 03-1528V

753. Brandi Plants on behalf of Griffen Plants, Boston, Massachusetts, Court of Federal Claims Number 03-1529V

754. Lisa Jolly on behalf Matthew Jolly, Boston, Massachusetts, Court of Federal Claims Number 03-1530V

755. Patricia Vaporis on behalf of Nomikos Vaporis, Boston, Massachusetts, Court of Federal Claims Number 03-1531V

756. Kristin Lebaron on behalf of Matthew Lebaron, Boston, Massachusetts, Court of Federal Claims Number 03-1532V

757. Luz Arevalo on behalf of Anna Zabin, Boston, Massachusetts, Court of Federal Claims Number 03-1533V

758. Rebecca Nelson on behalf of Sarah Nelson, Boston, Massachusetts, Court of Federal Claims Number 03-1534V

759. Rebecca Nelson on behalf of Matthew Nelson, Boston, Massachusetts, Court of Federal Claims Number 03-1535V

760. John Humphrey on behalf of Travis Humphrey, Boston, Massachusetts, Court of Federal Claims Number 03-1536V

761. Daijing and Yuan-Fang Wang on behalf of Eric Wang, Temecula, California, Court of Federal Claims Number 03-1539V

762. Tiffany E. and Randy P. Bowen on behalf of Elizabeth Bowen, Richmond, Virginia, Court of Federal Claims Number 03-1540V

763. Douglas Hillman on behalf of Sean Hillman, Somers Point, New Jersey, Court of Federal Claims Number 03-1541V

764. Bernadette and Salvatore Tagliaferro on behalf of Christopher Tagliaferro, Lake Success, New York, Court of Federal Claims Number 03-1542V

765. James Francis, Charleston, South Carolina, Court of Federal Claims Number 03-1543V

766. Michelle L. Prather on behalf of Brandon L. Begley, Alexandria, Virginia, Court of Federal Claims Number 03-1544V

767. Carmen Hutton on behalf of Joseph Hutton, Alexandria, Virginia, Court of Federal Claims Number 03-1545V

768. Earlesha N. Richardson on behalf of Marquise T. Paige, Alexandria, Virginia, Court of Federal Claims Number 03-1546V

769. Christina Taylor on behalf of Noah N. Taylor, Alexandria, Virginia, Court of Federal Claims Number 03-1547V

770. Rebecca Harper on behalf of Dallin Harper, Bowling Green, Ohio, Court of Federal Claims Number 03-1549V

771. Stacie Anderle on behalf Nolan Anderle, Boston, Massachusetts, Court of Federal Claims Number 03-1550V

772. Andrea Hensley on behalf of Noah Hensley, Boston, Massachusetts, Court of Federal Claims Number 03-1551V

773. Arline Pettway on behalf of Jordan Pettway, Boston, Massachusetts, Court of Federal Claims Number 03-1552V

774. Mohammad Salehpour on behalf of Jafar Salehpour, Boston, Massachusetts, Court of Federal Claims Number 03-1553V

775. Theresa Pancari on behalf of James Pancari, Boston, Massachusetts, Court of Federal Claims Number 03-1554V

776. Meredith Hess on behalf of Benjamin Hess, Boston, Massachusetts, Court of Federal Claims Number 03-1555V

777. Cilemba Loshi on behalf of Stephanie Loshi Kimbambe, Charlotte, North Carolina, Court of Federal Claims Number 03-1556V

778. Kimberly Hudson on behalf of Anthony T. Jones, Jr., Alexandria, Virginia, Court of Federal Claims Number 03-1560V

779. Elizabeth M. Ivy on behalf of Christina A. Blue, Alexandria, Virginia, Court of Federal Claims Number 03-1561V

780. Karen Melf on behalf of Katherine Melf, Scranton, Pennsylvania, Court of Federal Claims Number 03-1564V

781. Mary and Paul Hughes on behalf of Paul Hughes, Jr., Scranton, Pennsylvania, Court of Federal Claims Number 03-1565V

782. Sheila and Stephen Haigh on behalf of Kyle Haigh, Scranton, Pennsylvania, Court of Federal Claims Number 03-1566V

783. Debbie and James Fruehan on behalf of John L. Fruehan, Scranton, Pennsylvania, Court of Federal Claims Number 03-1567V

784. Kelly Kelly on behalf of Robert Kelly, Scranton, Pennsylvania, Court of Federal Claims Number 03-1568V

785. Mary Ann and Mike Davis on behalf of Corey Davis, Scranton, Pennsylvania, Court of Federal Claims Number 03-1569V

786. George Shadie on behalf of Alex Shadie, Scranton, Pennsylvania, Court of Federal Claims Number 03-1570V

787. Sherry Mercer on behalf of Steven Mercer, Scranton, Pennsylvania, Court of Federal Claims Number 03-1571V

788. Tery and Adam Serafin on behalf of Jaboc Serafin, Scranton, Pennsylvania, Court of Federal Claims Number 03-1572V

789. Judy and Joseph Manley on behalf of Brett Manley, Scranton, Pennsylvania, Court of Federal Claims Number 03-1573V

790. Leonardia and Edward Karpowicz on behalf of Quentin Karpowicz, Scranton, Pennsylvania, Court of Federal Claims Number 03-1574V

791. William P. Sukus on behalf of William J. Sukus, Scranton, Pennsylvania, Court of Federal Claims Number 03-1575V

792. Mary Ann and Mike Davis on behalf of Kimberly Davis, Scranton, Pennsylvania, Court of Federal Claims Number 03-1576V

793. Dolly and Gary Belles on behalf of Gary Belles, Jr., Scranton, Pennsylvania, Court of Federal Claims Number 03-1577V

794. Cathy and Scott Fuller on behalf of Bradley Fuller, Scranton, Pennsylvania, Court of Federal Claims Number 03-1578V

795. Katrina and Mark Burdetsky on behalf of Kayla Emily Burdetsky, Jacksonville, Florida, Court of Federal Claims Number 03-1579V

796. Elizabeth and Bradford Downes on behalf of Ryan A. Downes, Plantation, Florida, Court of Federal Claims Number 03-1580V

797. Barbara and William Labrecque on behalf of Sierra Labrecque, Vienna, Virginia, Court of Federal Claims Number 03-1581V

798. Barbara and William Labrecque on behalf of Jonathan Labrecque, Vienna, Virginia, Court of Federal Claims Number 03-1582V

799. Deannea and Steven Dagilis on behalf of Colton Bryce Dagilis, Temecula, Florida, Court of Federal Claims Number 03-1583V

800. Trudy Ricks and Gary Leader on behalf of Jeffrey Leader, Temecula, Florida, Court of Federal Claims Number 03-1584V

801. Jillian Lowrie on behalf of Emily Paige Lowrie, Sugarland, Texas, Court of Federal Claims Number 03-1585V

802. Christina Weisensel on behalf of David Vanmeter, Houston, Texas, Court of Federal Claims Number 03-1586V

803. Sharon Merrill on behalf of Matthew Merrill, Houston, Texas, Court of Federal Claims Number 03-1587V

804. Shanika Bell on behalf of La'Shundra Shaute Bell, Moorhead, Mississippi, Court of Federal Claims Number 03-1588V

805. Bobbi and Edward Peery on behalf of Kindra Peery, Houston, Texas, Court of Federal Claims Number 03-1589V

806. Marlean Beach on behalf of Esteau Shamal Williams, Houston, Texas, Court of Federal Claims Number 03-1590V

807. Shelia and Johnny Bishop on behalf of Jesse Taylor Bishop, Houston, Texas, Court of Federal Claims Number 03-1591V

808. Nancy and Terry Couch on behalf of Anthony Jarell Couch, Houston, Texas, Court of Federal Claims Number 03-1592V

809. Leanne and Lawrence Arena on behalf of Rocco Lawrence Arena, Bronx, New York, Court of Federal Claims Number 03-1593V

810. Monika and David Nugent on behalf of Daniel James Nugent, Danbury, Connecticut, Court of Federal Claims Number 03-1594V

811. Lori Schweiger on behalf of Sophia Rose Schweiger, Duluth, Minnesota, Court of Federal Claims Number 03-1595V

812. Gabriela Sweet on behalf of Leeroy Sweet, Houston, Texas, Court of Federal Claims Number 03-1596V

813. Candace and Scott Neu on behalf of Aaron Mathew Neu, Andover, Minnesota, Court of Federal Claims Number 03-1597V

814. Candace and Scott Neu on behalf of Hunter Allen Neu, Andover, Minnesota, Court of Federal Claims Number 03-1598V

815. Christine and Terry Peters on behalf of Braden Scott Peters, Houston, Texas, Court of Federal Claims Number 03-1599V

816. Diane and Richard Schmid on behalf of Jacob Allen Schmid, Houston, Texas, Court of Federal Claims Number 03-1600V

817. Anabel and Abdi Priego on behalf of Abdi Jared Priego, Houston, Texas, Court of Federal Claims Number 03-1601V

818. Alicia Clayton on behalf of Aaron Maliq Clayton, Houston, Texas, Court of Federal Claims Number 03-1602V

819. Sheri and Kevin Graham on behalf of Preston Tyler Graham, Houston, Texas, Court of Federal Claims Number 03-1603V

820. Anna and Anthony Thompson on behalf of James Martin Thompson, Boston, Massachusetts, Court of Federal Claims Number 03-1604V

821. Tammie and Thomas Anderson on behalf of Sion Anderson, Baltimore, Maryland, Court of Federal Claims Number 03-1605V

822. Lisa Osterkamp on behalf of Joshua Jacob Andberg, Houston, Texas, Court of Federal Claims Number 03-1606V

823. Bertha Boswell on behalf of Marquavis Devonta Boswell, Houston, Texas, Court of Federal Claims Number 03-1607V

824. Alvinese and Robert Henderson on behalf of Robert Lewis Henderson, Houston, Texas, Court of Federal Claims Number 03-1608V

825. Deena and Olando Rivera on behalf of Anthony Michael Rivera, Houston, Texas, Court of Federal Claims Number 03-1609V

826. Regina and Ricky King on behalf of Joshua Lynn King, Paducah, Kentucky, Court of Federal Claims Number 03-1610V

827. Nicole and Russell Rider on behalf of Logan Nicole Rider, Houston, Texas, Court of Federal Claims Number 03-1611V

828. Barbara and Gregory Haines on behalf of Kevin J. Haines, Woodbury, New Jersey, Court of Federal Claims Number 03-1612V

Dated: October 27, 2003.
Elizabeth M. Duke,
Administrator.

[FR Doc. 03-27883 Filed 11-5-03; 8:45 am]

BILLING CODE 4165-15-P